DEPARTMENT OF DEFENSE

GENERAL SERVICES ADMINISTRATION

NATIONAL AERONAUTICS AND SPACE ADMINISTRATION

48 CFR Parts 1, 2, 3, 4, 5, 6, 7, 8, 9, 10, 11, 12, 13, 14, 15, 16, 17, 19, 22, 23, 24, 25, 26, 27, 28, 30, 31, 32, 33, 36, 37, 38, 39, 41, 42, 43, 44, 46, 47, 48, 50, 51, 52, and 53

[FAC 2005-73; FAR Case 2011-018; Item I; Docket 2011-0018, Sequence 1]

RIN 9000-AM30

Federal Acquisition Regulation; Positive Law Codification of Title 41

AGENCY: Department of Defense (DoD), General Services Administration (GSA), and National Aeronautics and Space Administration (NASA).

ACTION: Final rule.

SUMMARY: DoD, GSA, and NASA are issuing a final rule to amend the Federal Acquisition Regulation (FAR) to conform references throughout the FAR to the new Positive Law Codification of Title 41, United States Code, “Public Contracts” and other conforming changes.

DATES: Effective: May 29, 2014.

FOR FURTHER INFORMATION CONTACT: Mr. Edward N. Chambers, Procurement Analyst, at 202-501-3221 for clarification of content. For information pertaining to status or publication schedules, contact the Regulatory Secretariat at 202-501-4755. Please cite FAC 2005-73, FAR Case 2011-018.

SUPPLEMENTARY INFORMATION:

I. Background

DoD, GSA, and NASA published a proposed rule in the Federal Register at 77 FR 57950 on September 18, 2012, to implement the positive law codification of Title 41, United States Code, “Public Contracts” (Pub. L. 111-350). Changes to standard forms were published in a correction document in the Federal Register at 77 FR 60343 on October 3, 2012.

Furthermore, the rule proposed further updates to complete the implementation of the recodification of title 40 in the FAR (see final rule under FAR Case 2005-010, Title 40 of United States Code Reference Corrections, published in the Federal Register at 70 FR 57453 on September 30, 2005).

The proposed rule included the following:

1. Changes to citations (e.g., “41 U.S.C. 10a-10d” now reads “41 U.S.C. chapter 83”).

2. Changes to the popular names of the Acts (e.g., the “Service Contract Act of 1965” is now the “Service Contract Labor Standards statute”). A table providing the popular names of the Acts, the present statutory citation, and the new titles of the statutes appears at FAR 1.110. This table covers Acts under both Titles 40 and 41.

3. Changes to terminology which did not involve substantive changes to the meaning of the statutes.

4. Numerous minor corrections to the FAR apart from the changes directly due to the recodification, such as corrections to references to Title 10 of the United States Code; addition of codification citations are added for authorization acts, appropriations acts, and other public laws.

Two respondents submitted comments on the proposed rule.

II. Discussion and Analysis

The Civilian Agency Acquisition Council and the Defense Acquisition Regulations Council (the Councils) reviewed the comments in the development of the final rule. A discussion of the comments and the changes made to the rule as a result of those comments are provided as follows:

A. Summary of Significant Changes

There are no changes in the final rule from those proposed, other than minor edits.

B. Analysis of Public Comments

1. Changes to the Popular Names of the Acts

a. Davis-Bacon Act

Comment: One respondent was particularly concerned about removal of references to the Davis-Bacon Act. The respondent stated that there was no mandate to remove references to the Davis-Bacon Act from the FAR. The 2005 rulemaking, which amended the FAR to correct the statutory references to Title 40, was sufficient. The respondent also stated that the new phrase “Wage Rate Requirements (Construction)” does not appear in the statutory text itself, although the subchapter heading is “Wage Rate Requirements.”

Furthermore, the respondent was concerned that the Department of Labor has not made similar changes in the Department of Labor regulations, which will result in confusion.

Response: The codifications of Title 40 and Title 41 have removed all references to the popular names of the statutes codified therein. There are also conforming changes to other titles of the United States Code, to likewise remove the use of the popular names throughout the United States Code. When the Councils decided that the change was necessary for conformity to the United States Code, the 2005 case was reviewed and conforming changes to the statutory titles in Title 40 were included in this case. Future changes to these sections of the United States Code will no longer be in terms of the old statutes, but in terms of the new codification. Therefore, the old popular names will gradually have little meaning to the newer workforce. As an aid to recognition of new statutory citations, the headings have been used to identify the statutes. In the case of “Wage Rate Requirements,” it appeared too generic, possibly leading to confusion with the wage rate requirements under the Service Contract Labor Standards statute. Therefore, when citing the title for 40 U.S.C. chapter 31, Subchapter IV, “(Construction)” has been added in parentheses, and when citing the statute, the regulations refer to it as the Construction Wage Rate Requirements statute.

The Department of Labor has confirmed that it is in the process of updating its regulations to conform to the codification of Titles 40 and 41.

b. Procurement Integrity Act and Truth in Negotiations Act

Comment: One respondent comments that changing the name of the “Procurement Integrity Act” to “Restrictions on Obtaining and Disclosing Certain Information” seems to take personal integrity as a government contractor or employee out of the picture and replace it with compliance with applicable rules. The respondent also expressed concern that the change in the title of the “Truth in Negotiations Act” to “Truthful Cost or Pricing Data” indicates that the Government does not care about dishonest or misleading conduct in negotiations as long as the underlying data is truthful.

Response: The codification did not change the substance of the statutes, just the titles. The FAR did not create these titles but is reflecting the new statutory chapter titles in Title 41, as enacted into law.

2. Terminology Changes

Comment: One respondent stated that some of the changes in the proposed rule indicate that the agencies no longer are interested in honesty in fact, but only in compliance with the law. According to the respondent, the Government is more interested in minor technicalities than the many serious issues necessary to maintain an honest and open procurement system.

Response: The Defense Acquisition Regulations Council and the Civilian Agencies Acquisition Council (the Councils) continue to demonstrate an ongoing interest in the serious issues relating to honesty and openness in procurement, and important issues such as personal and organizational conflicts of interest, fairness and integrity in competition, and collection of data in the Federal Awardee Procurement Integrity Information System. However, the acquisition regulations must also stay current with all statutory changes, Executive orders, the regulations of other agencies (e.g., the Department of Labor and the Small Business Administration), finance and pricing issues, international agreements, and systems changes, as well as making any necessary technical corrections to ensure the accuracy of the regulations.

The positive law codification of Title 41 did not involve any substantive changes to the meaning of the statutes. Nevertheless, the Councils undertook the effort to make all necessary changes to the FAR to make it consistent with Title 41, including terminology changes. Making a small change to maintain consistency with a statute does not indicate a lack of concern for the substantive issues.

C. Other Changes

There are no other substantive changes in the final rule from those proposed.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs (OIRA) has determined that this rule is not a significant regulatory action under section 6(a)(3)(A) of E.O. 12866, Regulatory Planning and Review, dated September 30, 1993. Therefore, this rule was not subject to OIRA review under section 6(b) of E.O. 12866. OIRA has determined that this rule is not a major rule under 5 U.S.C. 804.

IV. Regulatory Flexibility Act

The Department of Defense, the General Services Administration, and the National Aeronautics and Space Administration certify that this final rule will not have a significant economic impact on a substantial number of small entities within the meaning of the Regulatory Flexibility Act, 5 U.S.C. 601, et seq., because the rule does not change or add any policies or procedures. The rule merely updates references and terminology.

V. Paperwork Reduction Act

The Paperwork Reduction Act (44 U.S.C. chapter 35) does apply; however these changes to the FAR do not imposed additional information collection requirements to the paperwork burden previously approved under the Office of Management and Budget (OMB) Control Numbers 9000-0014, titled: Statement and Acknowledgment (SF 1413); 9000-0024, titled: Buy American Act Certificate; 9000-0025, titled: Buy American Act, Trade Agreements Act Certificate; 9000-0035, titled: Claims and Appeals; 9000-0045, titled: Bid Guarantees, Performance, and Payments Bonds; 9000-0070, titled: Payments; 9000-0089, titled: Request for Authorization of Additional Classification and Rate; 9000-0090, titled: Rights in Data and Copyrights; 9000-0091, titled: Anti-Kickback Procedures; 9000-0094, titled: Debarment and Suspension; 9000-0102, titled: Prompt Payment; 9000-0113, titled: Acquisition of Helium; 9000-0130, titled: Buy American Act-Free Trade Agreements—Israeli Trade Act Certificate; 9000-0135, titled: Prospective Subcontractor Requests for Bonds; 9000-0136, titled: Commercial Item Acquisitions; 9000-0138, titled: Contract Financing; 9000-0139, titled: Federal Acquisition and Community Right-to-know; 9000-0141, titled: Buy American—Construction; and 9000-0154, titled: Davis-Bacon Act—Price Adjustment (Actual Method).

List of Subjects in 48 CFR Parts 1, 2, 3, 4, 5, 6, 7, 8, 9, 10, 11, 12, 13, 14, 15, 16, 17, 19, 22, 23, 24, 25, 26, 27, 28, 30, 31, 32, 33, 36, 37, 38, 39, 41, 42, 43, 44, 46, 47, 48, 50, 51, 52, and 53

Government procurement.

Dated: April 11, 2014.
William Clark,
Acting Director, Office of Government-Wide Acquisition Policy, Office of Acquisition Policy, Office of Government-wide Policy.

Therefore, DoD, GSA, and NASA amend 48 CFR parts 1, 2, 3, 4, 5, 6, 7, 8, 9, 10, 11, 12, 13, 14, 15, 16, 17, 19, 22, 23, 24, 25, 26, 27, 28, 30, 31, 32, 33, 36, 37, 38, 39, 41, 42, 43, 44, 46, 47, 48, 50, 51, 52, and 53 as set forth below:

PART 1—FEDERAL ACQUISITION REGULATIONS SYSTEM

1. The authority citation for 48 CFR parts 1, 2, 3, 4 and 5 continues to read as follows:

Authority: 40 U.S.C. 121(c); 10 U.S.C. chapter 137; and 51 U.S.C. 20113.

2. Amend section 1.103 by revising paragraph (a) to read as follows:

1.103 Authority.

(a) The development of the FAR System is in accordance with the requirements of 41 U.S.C. chapter 13, Acquisition Councils.

* * * * *

1.106 [Amended]

3. Amend section 1.106 by removing from the introductory text “(Pub. L. 96-511)” and adding “(44 U.S.C. chapter 35)” in its place.

4. Amend section 1.107 by revising the introductory text to read as follows:

1.107 Certifications.

In accordance with 41 U.S.C. 1304, a new requirement for a certification by a contractor or offeror may not be included in this chapter unless—

* * * * *

5. Amend section 1.109 by removing from paragraph (a) “41 U.S.C. 431a” and adding “41 U.S.C. 1908” in its place; and revising paragraph (c) to read as follows:

1.109 Statutory acquisition-related dollar thresholds—adjustment for inflation.

* * * * *

(c) The statute does not permit escalation of acquisition-related dollar thresholds established by:

(1) 40 U.S.C. chapter 31, subchapter IV, Wage Rate Requirements (Construction);

(2) 41 U.S.C. chapter 67, Service Contract Labor Standards; or

(3) The United States Trade Representative pursuant to the authority of the Trade Agreements Act of 1979 (19 U.S.C. 2511 et seq.).

* * * * *

6. Add section 1.110 to subpart 1.1 to read as follows:

1.110 Positive law codification.

(a) Public Law 107-217 revised, codified, and enacted as title 40, United States Code, Public Buildings, Property, and Works, certain general and permanent laws of the United States.

(b) Public Law 111-350 revised, codified, and enacted as title 41, United States Code, Public Contracts, certain general and permanent laws of the United States.

(c) The following table provides cross references between the historical titles of the acts, and the current reference in title 40 or title 41.

Historical title of act | Division/chapter/subchapter | Title
Anti-Kickback Act | 41 U.S.C. chapter 87 | Kickbacks.
Brooks Architect-Engineer Act | 40 U.S.C. chapter 11 | Selection of Architects and Engineers.
Buy American Act | 41 U.S.C. chapter 83 | Buy American.
Contract Disputes Act of 1978 | 41 U.S.C. chapter 71 | Contract Disputes.
Contract Work Hours and Safety Standards Act | 40 U.S.C. chapter 37 | Contract Work Hours and Safety Standards.
Davis-Bacon Act | 40 U.S.C. chapter 31, Subchapter IV | Wage Rate Requirements (Construction).
Drug-Free Workplace Act | 41 U.S.C. chapter 81 | Drug-Free Workplace.
Federal Property and Administrative Services Act of 1949, Title III | 41 U.S.C. Div. C of subtitle I ¹ | Procurement.
Javits-Wagner-O'Day Act | 41 U.S.C. chapter 85 | Committee for Purchase from People Who Are Blind or Severely Disabled.
Miller Act | 40 U.S.C. chapter 31, subchapter III | Bonds.
Office of Federal Procurement Policy Act | 41 U.S.C. Div. B of subtitle I ² | Office of Federal Procurement Policy.
Procurement Integrity Act | 41 U.S.C. chapter 21 | Restrictions on Obtaining and Disclosing Certain Information.
Service Contract Act of 1965 | 41 U.S.C. chapter 67 | Service Contract Labor Standards.
Truth in Negotiations Act | 41 U.S.C. chapter 35 | Truthful Cost or Pricing Data.
Walsh-Healey Public Contracts Act | 41 U.S.C. chapter 65 | Contracts for Materials, Supplies, Articles, and Equipment Exceeding $15,000.
¹ Except sections 3302, 3501(b), 3509, 3906, 4710, and 4711.
² Except sections 1704 and 2303.

7. Amend section 1.301 by revising the first sentence of paragraph (b) to read as follows:

1.301 Policy.

* * * * *

(b) Agency heads shall establish procedures to ensure that agency acquisition regulations are published for comment in the Federal Register in conformance with the procedures in subpart 1.5 and as required by 41 U.S.C. 1707, and other applicable statutes, when they have a significant effect beyond the internal operating procedures of the agency or have a significant cost or administrative impact on contractors or offerors. * * *

* * * * *

1.501-1 [Amended]

8. Amend section 1.501-1 by removing from the first sentence “having a significant” and adding “and which have a significant” in its place.

1.602-3 [Amended]

9. Amend section 1.602-3 by removing from paragraph (b)(5) “under the Contract Disputes Act of 1978” and adding “under 41 U.S.C. chapter 71, Contract Disputes,” in its place.

1.603-1 [Amended]

10. Amend section 1.603-1 by removing “Subsection 414(4) of Title 41, United States Code,” and adding “41 U.S.C. 1702(b)(3)(F)” in its place.

PART 2—DEFINITIONS OF WORDS AND TERMS

11. Amend section 2.101 in paragraph (b) by—

a. Removing from the definition “Certified cost or pricing data” the citation “41 U.S.C. 254b)” and adding “41 U.S.C. chapter 35)” in its place;

b. Removing from the definition “Chief Acquisition Officer” the words “the Services Acquisition Reform Act of 2003, Section 1421 of Public Law 108-136” and adding “41 U.S.C. 1702” in its place;

c. Removing from the definition “Claim” the words “the Contract Disputes Act of 1978” and “by the Act” and adding “41 U.S.C. chapter 71, Contract Disputes,” and “by the statute” in their place, respectively;

d. Removing from the first sentence of the definition “Cost or pricing data” the words “41 U.S.C. 254b)” and adding “41 U.S.C. chapter 35)” in its place;

e. Removing from the definition “Humanitarian or peacekeeping operation” the words “41 U.S.C. 259(d)” and adding “41 U.S.C. 153(2)” in its place;

f. Revising the definition “Ineligible”;

g. Removing from the definition “Major system”, in paragraph (3), “41 U.S.C. 403” and adding “41 U.S.C. 109” in its place;

h. Revising the definition “Micro-purchase threshold”;

i. Revising the definition “Senior procurement executive”;

j. Removing from the definition “Simplified acquisition threshold” in the introductory text, “(41 U.S.C. 428a)” and adding “(41 U.S.C. 1903)” in its place;

k. Removing from the definition “Technical data” the words “(See 41 U.S.C. 403(8))” and adding “(See 41 U.S.C. 116)” in its place; and

l. Revising the definition “Value engineering” to read as follows:

2.101 Definitions.

* * * * *

(b) * * *

(2) * * *

Ineligible means excluded from Government contracting (and subcontracting, if appropriate) pursuant to statutory, Executive order, or regulatory authority other than this regulation (48 CFR chapter 1) and its implementing and supplementing regulations; for example, pursuant to—

(1) 40 U.S.C. chapter 31, subchapter IV, Wage Rate Requirements (Construction), and its related statutes and implementing regulations;

(2) 41 U.S.C. chapter 67, Service Contract Labor Standards;

(3) The Equal Employment Opportunity Acts and Executive orders;

(4) 41 U.S.C. chapter 65, Contracts for Material, Supplies, Articles, and Equipment Exceeding $15,000;

(5) 41 U.S.C. chapter 83, Buy American; or

(6) The Environmental Protection Acts and Executive orders.

* * * * *

Micro-purchase threshold means $3,000, except it means—

(1) For acquisitions of construction subject to 40 U.S.C. chapter 31, subchapter IV, Wage Rate Requirements (Construction), $2,000;

(2) For acquisitions of services subject to 41 U.S.C. chapter 67, Service Contract Labor Standards, $2,500; and

(3) For acquisitions of supplies or services that, as determined by the head of the agency, are to be used to support a contingency operation or to facilitate defense against or recovery from nuclear, biological, chemical or radiological attack as described in 13.201(g)(1), except for construction subject to 40 U.S.C. chapter 31, subchapter IV, Wage Rate Requirements (Construction) (41 U.S.C. 1903)—

(i) $15,000 in the case of any contract to be awarded and performed, or purchase to be made, inside the United States; and

(ii) $30,000 in the case of any contract to be awarded and performed, or purchase to be made, outside the United States.

* * * * *

Senior procurement executive means the individual appointed pursuant to 41 U.S.C. 1702(c) who is responsible for management direction of the acquisition system of the executive agency, including implementation of the unique acquisition policies, regulations, and standards of the executive agency.

* * * * *

Value engineering means an analysis of the functions of a program, project, system, product, item of equipment, building, facility, service, or supply of an executive agency, performed by qualified agency or contractor personnel, directed at improving performance, reliability, quality, safety, and life-cycle costs (41 U.S.C. 1711). For use in the clause at 52.248-2, see the definition at 52.248-2(b).

* * * * *

PART 3—IMPROPER BUSINESS PRACTICES AND PERSONAL CONFLICTS OF INTEREST

12. Amend section 3.104-1 in the definition “Contractor bid or proposal information” by revising paragraph (1); and removing from the definition “Federal agency procurement” the words “of the Act” and adding “of 41 U.S.C. chapter 21” in its place.

The revised text reads as follows:

3.104-1 Definitions.

* * * * *

Contractor bid or proposal information * * *

(1) Cost or pricing data (as defined by 10 U.S.C. 2306a(h)) with respect to procurements subject to that section, and 41 U.S.C. 3501(a)(2), with respect to procurements subject to that section.

* * * * *

13. Amend section 3.104-2 by revising paragraph (a) to read as follows:

3.104-2 General.

(a) This section implements 41 U.S.C. chapter 21, Restrictions on Obtaining and Disclosing Certain Information. Agency supplementation of 3.104, including specific definitions to identify individuals who occupy positions specified in 3.104-3(d)(1)(ii), and any clauses required by 3.104 must be approved by the senior procurement executive of the agency, unless a law establishes a higher level of approval for that agency.

* * * * *

3.104-3 [Amended]

14. Amend section 3.104-3 by—

a. Removing from the heading of paragraph (a) “(subsection 27(a) of the Act)” and adding “(41 U.S.C. 2102)” in its place;

b. Removing from the heading of paragraph (b) “(subsection 27(b) of the Act)” and adding “(41 U.S.C. 2102)” in its place;

c. Removing from the heading of paragraph (c) “(subsection 27(c) of the Act)” and adding “(41 U.S.C. 2103)” in its place;

d. Removing from paragraph (c)(4) “subsection 27(c) of the Act” and adding “41 U.S.C. 2103” in its place; and

e. Removing from the heading of paragraph (d) “subsection 27(d) of the Act” and adding “41 U.S.C. 2104)” in its place.

3.104-4 [Amended]

15. Amend section 3.104-4 by removing from paragraph (f)(1) “section 27 of the Act” and adding “41 U.S.C. chapter 21” in its place.

3.104-6 [Amended]

16. Amend section 3.104-6 by removing from paragraphs (a), (c), and (d)(3) “subsection 27(d) of the Act” and adding “41 U.S.C. 2104” in its place.

3.104-7 [Amended]

17. Amend section 3.104-7 by—

a. Removing from the introductory text of paragraph (a) “subsection 27(a), (b), (c), or (d) of the Act” and adding “41 U.S.C. 2102, 2103, or 2104” in its place;

b. Removing from paragraph (b)(5) “subsection 27(e) of the Act” and adding “41 U.S.C. 2105” in its place;

c. Removing from paragraph (c) “the Act” and adding “41 U.S.C. chapter 21” in its place;

d. Removing from the introductory text of paragraph (d) “section 27 of the Act” and adding “41 U.S.C. chapter 21” in its place;

e. Removing from paragraph (d)(2)(ii)(A) “subsections 27(a) or (b) of the Act” and adding “41 U.S.C. 2102” in its place; and

f. Removing from paragraph (d)(2)(ii)(B) “subsection 27(e)(1) of the Act” and adding “41 U.S.C. 2105(a)” in its place.

3.104-8 [Amended]

18. Amend section 3.104-8 by removing from the introductory text “the Act” and adding “41 U.S.C. chapter 21” in its place; and removing from paragraphs (a) and (b) “subsection 27(e) of the Act” and adding “41 U.S.C. 2105” in its place.

3.303 [Amended]

19. Amend section 3.303 by removing from paragraph (a) “41 U.S.C. 253b(i)” and adding “41 U.S.C. 3707” in its place; and removing from paragraph (c)(5) “let by” and adding “awarded by” in its place.

3.400 [Amended]

20. Amend section 3.400 by removing “41 U.S.C. 254(a)” and adding “41 U.S.C. 3901” in its place.

3.402 [Amended]

21. Amend section 3.402 by removing from the introductory text “41 U.S.C. 254(a)” and adding “41 U.S.C. 3901” in its place.

3.502-1 [Amended]

22. Amend section 3.502-1 by removing from the definition “Kickback” the words “, directly or indirectly,”.

23. Amend section 3.502-2 by—

a. Revising the introductory text, and paragraphs (d)(3) and (g);

b. Removing from the introductory text of paragraph (h), and paragraphs (i)(1), and (i)(2) “Act” and adding “Kickbacks statute” in its place; and

c. Revising paragraph (j).

The revised text reads as follows:

3.502-2 Subcontractor kickbacks.

The Anti-Kickback Act of 1986 (now codified at 41 U.S.C. chapter 87, Kickbacks,) was passed to deter subcontractors from making payments and contractors from accepting payments for the purpose of improperly obtaining or rewarding favorable treatment in connection with a prime contract or a subcontract relating to a prime contract. The Kickbacks statute—

* * * * *

(d) * * *

(3) An offset under paragraph (d)(1) or a direction under paragraph (d)(2) of this subsection is a claim by the Government for the purposes of 41 U.S.C. chapter 71, Contract Disputes.

* * * * *

(g) Requires a prime contractor or subcontractor to report in writing to the inspector general of the contracting agency, the head of the contracting agency if the agency does not have an inspector general, or the Attorney General any possible violation of the Kickbacks statute when the prime contractor or subcontractor has reasonable grounds to believe such violation may have occurred.

* * * * *

(j) Notwithstanding paragraph (i) of this section, a prime contractor shall cooperate fully with any Federal Government agency investigating a violation of 41 U.S.C. 8702 (see 41 U.S.C. 8703(b)).

3.503-1 [Amended]

24. Amend section 3.503-1 by removing “41 U.S.C. 253g” and adding “41 U.S.C. 4704” in its place.

25. Amend section 3.703 by revising the introductory text of paragraph (b) and paragraph (b)(1) to read as follows:

3.703 Authority.

* * * * *

(b) 41 U.S.C. 2105(c) requires a Federal agency, upon receiving information that a contractor or a person has violated 41 U.S.C. 2102, to consider rescission of a contract with respect to which—

(1) The contractor or someone acting for the contractor has been convicted for an offense punishable under 41 U.S.C. 2105(a); or

* * * * *

3.704 [Amended]

26. Amend section 3.704 by removing from the introductory text of paragraph (c) “subsection 27(e) of the OFPP Act” and adding “41 U.S.C. 2105” in its place.

27. Amend section 3.705 by revising paragraph (e) to read as follows:

3.705 Procedures.

* * * * *

(e) Final agency decision. The final agency decision shall be based on the information available to the agency head or designee, including any pertinent information submitted or, if a hearing was held, presented at the hearing. If the agency decision declares void and rescinds the contract, the final decision shall specify the amounts due and property to be returned to the agency, and reflect consideration of the fair value of any tangible benefits received and retained by the agency. Notice of the decision shall be sent promptly by certified mail, return receipt requested. Rescission of contracts under the authority of the Act and demand for recovery of the amounts expended and property transferred therefor, is not a claim within the meaning of 41 U.S.C. chapter 71, Contract Disputes, or part 33. Therefore, the procedures required by the statute and the FAR for the issuance of a final contracting officer decision are not applicable to final agency decisions under this subpart, and shall not be followed.

28. Revise section 3.1000 to read as follows:

3.1000 Scope of subpart.

This subpart—

(a) Implements 41 U.S.C. 3509, Notification of Violations of Federal Criminal Law or Overpayments; and

(b) Prescribes policies and procedures for the establishment of contractor codes of business ethics and conduct, and display of agency Office of Inspector General (OIG) fraud hotline posters.

29. Revise section 3.1100 to read as follows:

3.1100 Scope of subpart.

This subpart implements policy on personal conflicts of interest by employees of Government contractors as required by 41 U.S.C. 2303.

PART 4—ADMINISTRATIVE MATTERS

30. Revise section 4.500 to read as follows:

4.500 Scope of subpart.

This subpart provides policy and procedures for the establishment and use of electronic commerce in Federal acquisition as required by 41 U.S.C. 2301.

4.502 [Amended]

31. Amend section 4.502 by removing from the introductory text of paragraph (b) “Section 30 of the OFPP Act (41 U.S.C. 426)” and adding “41 U.S.C. 2301” in its place.

32. Amend section 4.602 by revising paragraph (a)(2) to read as follows:

4.602 General.

(a) * * *

(2) A means of measuring and assessing the effect of Federal contracting on the Nation's economy and the extent to which small, veteran-owned small, service-disabled veteran-owned small, HUBZone small, small disadvantaged, women-owned small business concerns, and AbilityOne nonprofit agencies operating under 41 U.S.C. chapter 85, Committee for Purchase from People Who Are Blind or Severely Disabled, are sharing in Federal contracts;

* * * * *

4.805 [Amended]

33. Amend section 4.805 by removing from paragraph (b)(1) “Disputes Act” and adding “Disputes statute” in its place.

4.1202 [Amended]

34. Amend section 4.1202 by—

a. Removing from paragraph (p) “Contract Act” and “Certification” and adding “Contract Labor Standards” and “-Certification” in their place, respectively;

b. Removing from paragraph (q) “Contract Act” and adding “Contract Labor Standards” in its place; and

c. Removing from paragraphs (u) and (v) “Buy American Act” and adding “Buy American” in its place.

PART 5—PUBLICIZING CONTRACT ACTIONS

35. Amend section 5.101 by revising the introductory text of paragraph (a) to read as follows:

5.101 Methods of disseminating information.

(a) As required by the Small Business Act (15 U.S.C. 637(e)) and 41 U.S.C. 1708, contracting officers must disseminate information on proposed contract actions as follows:

* * * * *

36. Amend section 5.201 by revising paragraph (a) to read as follows:

5.201 General.

(a) As required by the Small Business Act (15 U.S.C. 637(e)) and 41 U.S.C. 1708, agencies must make notices of proposed contract actions available as specified in paragraph (b) of this section.

* * * * *

37. Amend section 5.202 by revising paragraph (a)(4) to read as follows:

5.202 Exceptions.

* * * * *

(a) * * *

(4) The proposed contract action is expressly authorized or required by a statute to be made through another Government agency, including acquisitions from the Small Business Administration (SBA) using the authority of section 8(a) of the Small Business Act (but see 5.205(f)), or from a specific source such as a workshop for the blind under the rules of the Committee for Purchase from People Who Are Blind or Severely Disabled;

* * * * *

38. Amend section 5.207 by removing from paragraph (c)(14)(i) “American Act” and adding “American” in its place; and revising paragraph (c)(14)(iii) to read as follows:

5.207 Preparation and transmittal of synopses.

* * * * *

(c) * * *

(14) * * *

(iii) If the solicitation will include the FAR clause at 52.225-11, Buy American-Construction Materials under Trade Agreements, 52.225-23, Required Use of American Iron, Steel, and Manufactured Goods—Buy American Statute—Construction Materials under Trade Agreements, or an equivalent agency clause, insert the following notice in the synopsis: “One or more of the items under this acquisition is subject to the World Trade Organization Government Procurement Agreement and Free Trade Agreements.”

* * * * *

PART 6—COMPETITION REQUIREMENTS

39. The authority citation for 48 CFR part 6 is revised to read as follows:

Authority: 40 U.S.C. 121(c); 10 U.S.C. chapter 137; and 51 U.S.C. 20113.

6.000 [Amended]

40. Amend section 6.000 by removing “and competition advocates” and adding “and advocates for competition” in its place.

6.101 [Amended]

41. Amend section 6.101 by—

a. Removing from paragraph (a) “41 U.S.C. 253” and adding “41 U.S.C. 3301” in its place.

b. Removing from paragraph (b) “41 U.S.C. 253” and adding “41 U.S.C. 3301” in its place.

6.102 [Amended]

42. Amend section 6.102 by removing from paragraph (d)(3) “41 U.S.C. 259(b)(3)(A)” and adding “41 U.S.C. 152(3)(A)” in its place.

6.301 [Amended]

43. Amend section 6.301 by removing from paragraph (a) “41 U.S.C. 253(c)” and adding “41 U.S.C. 3304” in its place (twice).

6.302-1 [Amended]

44. Amend section 6.302-1 by—

a. Removing from paragraph (a)(1) “41 U.S.C. 253(c)(1)” and adding “41 U.S.C. 3304(a)(1)” in its place;

b. Removing from paragraph (a)(2)(i)(C) “41 U.S.C. 253(d)(1)(A)” and adding “41 U.S.C. 3304(b)(1)” in its place; and

c. Removing from paragraph (a)(2)(ii)(B) “41 U.S.C. 253(d)(1)(B)” and adding “41 U.S.C. 3304(b)(2)” in its place.

6.302-2 [Amended]

45. Amend section 6.302-2 by removing from paragraph (a)(1) “41 U.S.C. 253(c)(2)” and adding “41 U.S.C. 3304(a)(2)” in its place.

6.302-3 [Amended]

46. Amend section 6.302-3 by removing from paragraph (a)(1) “41 U.S.C. 253(c)(3)” and adding “41 U.S.C. 3304(a)(3)” in its place.

6.302-4 [Amended]

47. Amend section 6.302-4 by removing from paragraph (a)(1) “41 U.S.C. 253(c)(4)” and adding “41 U.S.C. 3304(a)(4)” in its place.

48. Amend section 6.302-5 by revising paragraphs (a)(1), (b)(2), and (c)(1)(ii), and the introductory text of paragraph (c)(1)(iii), to read as follows:

6.302-5 Authorized or required by statute.

(a) Authority. (1) Citations: 10 U.S.C. 2304(c)(5) or 41 U.S.C. 3304(a)(5).

* * * * *

(b) * * *

(2) Qualified nonprofit agencies for the blind or other severely disabled—41 U.S.C. chapter 85, Committee for Purchase From People Who Are Blind or Severely Disabled (see subpart 8.7).

* * * * *

(c) * * *

(1) * * *

(ii) Refers to 10 U.S.C. 2304(k) for armed services acquisitions or 41 U.S.C. 3105 for civilian agency acquisitions; and

(iii) States that award to that entity shall be made in contravention of the merit-based selection procedures in 10 U.S.C. 2304(k) or 41 U.S.C. 3105, as appropriate. However, this limitation does not apply—

* * * * *

6.302-6 [Amended]

49. Amend section 6.302-6 by removing from paragraph (a)(1) “41 U.S.C. 253(c)(6)” and adding “41 U.S.C. 3304(a)(6)” in its place.

6.302-7 [Amended]

50. Amend section 6.302-7 by removing from paragraph (a)(1) “41 U.S.C. 253(c)(7)” and adding “41 U.S.C. 3304(a)(7)” in its place.

6.304 [Amended]

51. Amend section 6.304 by removing from paragraph (a)(2) “by the competition advocate” and adding “by the advocate for competition”; and by removing from paragraph (a)(4) “the OFPP Act (41 U.S.C. 414(3))” and adding “41 U.S.C. 1702(c)” in its place.

6.305 [Amended]

52. Amend section 6.305 by removing from paragraph (a) “41 U.S.C. 253(j).” and adding “41 U.S.C. 3304(f).” in its place.

53. Revise the heading of subpart 6.5 to read as set forth below:

SUBPART 6.5—ADVOCATES FOR COMPETITION

54. Amend section 6.501 by revising the introductory text to read as follows:

6.501 Requirement.

As required by 41 U.S.C. 1705, the head of each executive agency shall designate an advocate for competition for the agency and for each procuring activity of the agency. The advocates for competition shall—

* * * * *

6.502 [Amended]

55. Amend section 6.502 by removing from paragraph (a) and the introductory text of paragraph (b) “competition advocates” and adding “advocates for competition” in their places.

PART 7—ACQUISTION PLANNING

56. The authority citation for 48 CFR parts 7, 8, 9, 10, 11, 12, and 13 continues to read as follows:

Authority: 40 U.S.C. 121(c); 10 U.S.C. chapter 137; and 51 U.S.C. 20113.

7.102 [Amended]

57. Amend section 7.102 by removing from paragraph (a)(1) “41 U.S.C. 251, et seq.” and adding “41 U.S.C. 3307” in its place; and removing from paragraph (a)(2) “10 U.S.C. 2301(a)(5) and 41 U.S.C. 253a(a)(1)” and adding “10 U.S.C. 2305(a)(1)(A) and 41 U.S.C. 3306(a)(1)” in its place.

7.103 [Amended]

58. Amend section 7.103 by—

a. Removing from paragraph (a) “41 U.S.C. 253a(a)(1))” and adding “41 U.S.C. 3306(a)(1)” in its place;

b. Removing from paragraph (b) “41 U.S.C. 251, et seq.” and adding “41 U.S.C 3307” in its place; and

c. Removing from paragraph (c) “41 U.S.C. 253A(a)(1)” and adding “41 U.S.C. 3306(a)(1)” in its place.

7.104 [Amended]

59. Amend section 7.104 by removing from paragraph (c) “competition advocate” and adding “advocate for competition” in its place.

7.108 [Amended]

60. Amend section 7.108 by removing from the introductory text “section 1428 of Public Law 108-136” and adding “41 U.S.C. 3306(f)” in its place.

7.202 [Amended]

61. Amend section 7.202 by removing from paragraph (a) “10 U.S.C. 2384(a) and 41 U.S.C. 253(f)” and adding “10 U.S.C. 2384a and 41 U.S.C. 3310” in its place.

PART 8—REQUIRED SOURCES OF SUPPLIES AND SERVICES

8.401 [Amended]

62. Amend section 8.401 in the definition “Multiple Award Schedule (MAS)” by removing “Title III of the Federal Property and Administrative Services Act of 1949 (41 U.S.C. 251, et seq.) and Title” and adding “41 U.S.C. 152(3), Competitive Procedures, and” in its place.

8.403 [Amended]

63. Amend section 8.403 by removing from the introductory text of paragraph (c) “Public Law 108-136” and adding “Public Law 108-136 (40 U.S.C. 1103 note)” in its place.

8.405-6 [Amended]

64. Amend section 8.405-6 by removing from paragraph (d)(2) “competition advocate” and adding “advocate for competition” in its place.

8.602 [Amended]

65. Amend section 8.602 by removing from the introductory text of paragraph (a) “(Pub. L. 108-447)” and adding “(Pub. L. 108-447) (18 U.S.C. 4124 note)” in its place.

66. Amend section 8.603 by revising the introductory text, and removing from paragraph (a)(1) “(41 U.S.C. 48)” and adding “(41 U.S.C. 8504)” in its place.

The revised text reads as follows:

8.603 Purchase priorities.

FPI and nonprofit agencies participating in the AbilityOne Program under 41 U.S.C. chapter 85, Committee for Purchase from People Who Are Blind or Severely Disabled (see subpart 8.7), may produce identical supplies or services. When this occurs, ordering offices shall purchase supplies and services in the following priorities:

* * * * *

67. Revise section 8.700 to read as follows:

8.700 Scope of subpart.

This subpart prescribes the policies and procedures for implementing—

(a) 41 U.S.C. chapter 85, Committee for Purchase from People Who Are Blind or Severely Disabled; and

(b) The rules of the Committee for Purchase from People Who Are Blind or Severely Disabled (41 CFR Chapter 51), which implements the AbilityOne program.

8.701 [Amended]

68. Amend section 8.701 by—

a. Removing from the definition “Procurement List” “the Javits-Wagner-O'Day Act” and adding “41 U.S.C. chapter 85” in its place; and

b. Removing from the definition “Nonprofit agency serving people who are blind,” the words “the Act” and adding “41 U.S.C. chapter 85” in its place.

8.702 [Amended]

69. Amend section 8.702 by removing from paragraph (c) “the Javits-Wagner-O'Day Act” and adding “41 U.S.C. chapter 85” in its place.

8.704 [Amended]

70. Amend section 8.704 by removing from the introductory text of paragraph (a) “The Javits-Wagner-O'Day Act” and adding “41 U.S.C. chapter 85” in its place; and removing from paragraph (a)(1)(i) “(41 U.S.C. 48)” and adding “(41 U.S.C. 8504)” in its place.

8.1104 [Amended]

71. Amend section 8.1104 by removing from paragraph (e)(3) “Walsh-Healey Public Contracts Act” and adding “Contracts for Materials, Supplies, Articles, and Equipment Exceeding $15,000” in its place.

PART 9—CONTRACTOR QUALIFICATIONS

9.102 [Amended]

72. Amend section 9.102 by removing from paragraph (b)(3) “the blind or other severely handicapped” and adding “people who are blind or severely disabled” in its place.

73. Amend section 9.107 by revising the section heading; and removing from paragraph (a) “41 U.S.C. 46-48c” and adding “41 U.S.C. chapter 85” in its place. The revised text reads as follows:

9.107 Surveys of nonprofit agencies participating in the AbilityOne Program.

* * * * *

74. Revise section 9.200 to read as follows:

9.200 Scope of subpart.

This subpart implements 10 U.S.C. 2319 and 41 U.S.C. 3311 and prescribes policies and procedures regarding qualification requirements and the acquisitions that are subject to such requirements.

9.202 [Amended]

75. Amend section 9.202 by removing from paragraph (b) “competition advocate” and adding “advocate for competition” in its place (twice).

9.402 [Amended]

76. Amend section 9.402 by removing from paragraph (d) “(Pub. L. 110-417)” and adding “(Pub. L. 110-417) (31 U.S.C. 6101 note)” in its place.

77. Amend section 9.406-2 by revising the introductory text of paragraph (b)(1)(ii) to read as follows:

9.406-2 Causes for debarment.

* * * * *

(b)(1) * * *

(ii) Violations of 41 U.S.C. chapter 81, Drug-Free Workplace, as indicated by—

* * * * *

9.406-4 [Amended]

78. Amend section 9.406-4 by removing from paragraph (a)(1)(i) “the Drug-Free Workplace Act of 1988” and adding “41 U.S.C. chapter 81, Drug-Free Workplace” in its place.

79. Amend section 9.407-2 by revising the introductory text of paragraph (a)(4) to read as follows:

9.407-2 Causes for suspension.

(a) * * *

(4) Violations of 41 U.S.C. chapter 81, Drug-Free Workplace, as indicated by—

* * * * *

PART 10—MARKET RESEARCH

10.000 [Amended]

80. Amend section 10.000 by removing “41 U.S.C. 253a(a)(1), 41 U.S.C. 264b” and adding “41 U.S.C. 3306(a)(1), 41 U.S.C. 3307” in its place.

PART 11—DESCRIBING AGENCY NEEDS

11.002 [Amended]

81. Amend section 11.002 by removing from the introductory text of paragraph (a) “41 U.S.C. 253a(a), and 41 U.S.C. 264b” and adding “41 U.S.C. 3306(a), and 41 U.S.C. 3307” in its place.

11.103 [Amended]

82. Amend section 11.103 by removing from the introductory text of paragraph (a) “Section 8002(c) of Pub. L. 103-355” and adding “41 U.S.C. 3307(e)” in its place.

11.500 [Amended]

83. Amend section 11.500 by removing “Standards Act” and adding “Standards statute” in its place.

PART 12—ACQUISITION OF COMMERCIAL ITEMS

12.000 [Amended]

84. Amend section 12.000 by removing “Title VIII of the Federal Acquisition Streamlining Act of 1994 (Pub. L. 103-355)” and adding “41 U.S.C. 1906, 1907, and 3307 and 10 U.S.C. 2375-2377” in its place.

12.102 [Amended]

85. Amend section 12.102 by removing from the introductory text of paragraph (g)(1) “section 1431 of the National Defense Authorization Act for Fiscal Year 2004 (Pub. L. 108-136) (41 U.S.C. 437)” and adding “41 U.S.C. 2310” in its place.

86. Revise section 12.103 to read as follows:

12.103 Commercially available off-the-shelf (COTS) items.

Commercially available off-the-shelf (COTS) items are defined in 2.101. Unless indicated otherwise, all of the policies that apply to commercial items also apply to COTS items. Section 12.505 lists the laws that are not applicable to COTS items (in addition to 12.503 and 12.504); the components test of the Buy American statute, and the two recovered materials certifications in subpart 23.4, do not apply to COTS items.

87. Revise section 12.201 to read as follows:

12.201 General.

This subpart identifies special requirements for the acquisition of commercial items intended to more closely resemble those customarily used in the commercial marketplace, as well as other considerations necessary for proper planning, solicitation, evaluation, and award of contracts for commercial items.

12.301 [Amended]

88. Amend section 12.301 by removing from the introductory text of paragraph (a) “Section 8002 of Public Law 103-355 (41 U.S.C. 264, note)” and adding “41 U.S.C. 3307” in its place.

12.404 [Amended]

89. Amend section 12.404 by removing from the introductory text of paragraph (b) “The Federal Acquisition Streamlining Act of 1994 (41 U.S.C. 264 note)” and adding “41 U.S.C. 3307(e)(5)(B)” in its place.

12.500 [Amended]

90. Amend section 12.500 by removing from the introductory text of paragraph (a) “sections 34 and 35 of the Office of Federal Procurement Policy Act (41 U.S.C. 430 and 431)” and adding “41 U.S.C. 1906 and 1907” in its place.

12.502 [Amended]

91. Amend section 12.502 by removing from paragraph (b) “and Commercial Components”.

92. Amend section 12.503 by—

a. Revising paragraphs (a)(1) through (a)(4), and (a)(7) through (a)(9), and paragraphs (b)(1), and (b)(2);

b. Removing from paragraph (c)(1) “41 U.S.C. 253g” and adding “41 U.S.C. 4704” in its place;

c. Revising paragraph (c)(2); and

d. Removing from paragraph (c)(3) “41 U.S.C. 422” and adding “41 U.S.C. chapter 15” in its place.

The revised text reads as follows:

12.503 Applicability of certain laws to Executive agency contracts for the acquisition of commercial items.

(a) * * *

(1) 41 U.S.C. chapter 65, Contracts for Materials, Supplies, Articles, and Equipment Exceeding $15,000 (see subpart 22.6).

(2) 41 U.S.C. 3901(b) and 10 U.S.C. 2306(b), Contingent Fees (see 3.404).

(3) 41 U.S.C. 1708(e)(3), Minimum Response Time for Offers (see 5.203).

(4) 41 U.S.C. chapter 81, Drug-Free Workplace (see 23.501).

* * * * *

(7) Section 806(a)(3) of Pub. L. 102-190, as amended by sections 2091 and 8105 of Pub. L. 103-355 (10 U.S.C. 2302 note), Payment Protections for Subcontractors and Suppliers (see 28.106-6).

(8) 41 U.S.C. 4706(d)(1) and 10 U.S.C. 2313(c)(1), GAO Access to Contractor Employees, section 871 of Pub. L. 110-417 (see 52.214-26 and 52.215-2).

(9) 41 U.S.C. 2303(b), Policy on Personal Conflicts of Interest by Contractor Employees (see subpart 3.11).

(b) * * *

(1) 40 U.S.C. chapter 37, Requirement for a certificate and clause under the Contract Work Hours and Safety Standards statute (see 22.305).

(2) 41 U.S.C. 8703 and 8704, Requirement for a clause and certain other requirements related to kickbacks (see 3.502).

* * * * *

(c) * * *

(2) 41 U.S.C. chapter 35, Truthful Cost or Pricing Data, and 10 U.S.C. 2306a, Truth in Negotiations (see 15.403).

* * * * *

93. Amend section 12.504 by—

a. Revising paragraphs (a)(4) through (a)(10);

b. Removing from paragraph (a)(13) “Pub. L. 103-355” and adding “Pub. L. 103-355 (10 U.S.C. 2302 note)” in its place;

c. Removing from paragraph (b) “Act, 40 U.S.C. 3701, et seq.” and adding “statute, 40 U.S.C. chapter 37” in its place; and

d. Revising paragraphs (c)(1) through (c)(3).

The revised text reads as follows:

12.504 Applicability of certain laws to subcontracts for the acquisition of commercial items.

(a) * * *

(4) 41 U.S.C. 6505, Contracts for Materials, Supplies, Articles, and Equipment Exceeding $15,000 (see subpart 22.6).

(5) 41 U.S.C. 4703, Validation of Proprietary Data restrictions (see subpart 27.4).

(6) 41 U.S.C. 3901(b) and 10 U.S.C. 2306(b), Contingent Fees (see subpart 3.4).

(7) 41 U.S.C. 4706(d) and 10 U.S.C. 2313(c), Examination of Records of Contractor, when a subcontractor is not required to provide certified cost or pricing data (see 15.209(b)), unless using funds appropriated or otherwise made available by the American Recovery and Reinvestment Act of 2009 (Pub. L. 111-5).

(8) 41 U.S.C. 1708(e)(3), Minimum Response Time for Offers (see subpart 5.2).

(9) 41 U.S.C. 2302, Rights in Technical Data (see subpart 27.4).

(10) 41 U.S.C. chapter 81, Drug-Free Workplace (see subpart 23.5).

* * * * *

(c) * * *

(1) 41 U.S.C. 4704 and 10 U.S.C. 2402, Prohibition on Limiting Subcontractor Direct Sales to the United States (see subpart 3.5).

(2) 41 U.S.C. chapter 35, Truthful Cost or Pricing Data, and 10 U.S.C. 2306a, Truth in Negotiations (see subpart 15.4).

(3) 41 U.S.C. chapter 15, Cost Accounting Standards (48 CFR chapter 99) (see 12.214).

94. Amend section 12.505 by revising paragraph (a) to read as follows:

12.505 Applicability of certain laws to contracts for the acquisition of COTS items.

* * * * *

(a)(1) The portion of 41 U.S.C. 8302(a)(1) that reads “substantially all from articles, materials, or supplies mined, produced, or manufactured in the United States,” Buy American—Supplies, component test (see 52.225-1 and 52.225-3).

(2) The portion of 41 U.S.C. 8303(a)(2) that reads “substantially all from articles, materials, or supplies mined, produced, or manufactured in the United States,” Buy American—Construction Materials, component test (see 52.225-9 and 52.225-11).

* * * * *

PART 13—SIMPLIFIED ACQUISITION PROCEDURES

95. Amend section 13.005 by—

a. Revising the section heading;

b. Removing from the introductory text of paragraph (a) “threshold” and adding “threshold pursuant to 41 U.S.C. 1905” in its place;

c. Removing from paragraph (a)(1) “41 U.S.C. 57(a) and (b) (Anti-Kickback Act of 1986)” and adding “41 U.S.C. 8703 (Kickbacks statute)” in its place;

d. Removing from paragraph (a)(2) “40 U.S.C. 3131 (Miller Act). (Although the Miller Act does” and adding “40 U.S.C. 3131 (Bonds statute). (Although the Bonds statute does” in its place;

e. Revising paragraphs (a)(3), (a)(4), and (a)(6) through (a)(8); and

f. Removing from paragraph (c)(2) “Section 4101, Public Law 103-355” and adding “41 U.S.C. 1905” in its place.

The revised text reads as follows:

13.005 List of laws inapplicable to contracts and subcontracts at or below the simplified acquisition threshold.

(a) * * *

(3) 40 U.S.C. chapter 37 (Contract Work Hours and Safety Standards—Overtime Compensation).

(4) 41 U.S.C. 8102(a)(1) (Drug-Free Workplace), except for individuals.

* * * * *

(6) 10 U.S.C. 2306(b) and 41 U.S.C. 3901(b) (Contract Clause Regarding Contingent Fees).

(7) 10 U.S.C. 2313 and 41 U.S.C. 4706 (Authority to Examine Books and Records of Contractors).

(8) 10 U.S.C. 2402 and 41 U.S.C. 4704 (Prohibition on Limiting Subcontractors Direct Sales to the United States).

* * * * *

13.006 [Amended]

96. Amend section 13.006 by removing from paragraph (e) the word “Act”.

13.302-5 [Amended]

97. Amend section 13.302-5 by removing from paragraph (d)(3)(i) “Buy American Act” and adding “Buy American” in its place (two times).

13.500 [Amended]

98. Amend section 13.500 by removing from the introductory text of paragraph (a) “41 U.S.C. 253(g) and 253a and 253b” and adding “41 U.S.C. 3305, 3306, and chapter 37, Awarding of Contracts” in its place; and removing from the introductory text of paragraph (e) “41 U.S.C. 428a” and adding “41 U.S.C. 1903” in its place.

13.501 [Amended]

99. Amend section 13.501 by—

a. Removing from paragraph (a)(1)(ii) “(section 4202 of the Clinger-Cohen Act of 1996) or the authority of the Services Acquisition Reform Act of 2003 (41 U.S.C. 428a)” and adding “at 41 U.S.C. 1901 or the authority of 41 U.S.C. 1903” in its place; and

b. Removing from paragraph (a)(2)(ii) “competition advocate” and adding “advocate for competition” in its place.

PART 14—SEALED BIDDING

100. The authority citation for 48 CFR part 14 is revised to read as follows:

Authority: 40 U.S.C. 121(c); 10 U.S.C. chapter 137; and 51 U.S.C. 20113.

14.201-8 [Amended]

101. Amend section 14.201-8 by removing from paragraph (e) “American Act” and adding “American statute” in its place.

14.404-2 [Amended]

102. Amend section 14.404-2 by removing from paragraph (l) “41 U.S.C. 15” and adding “41 U.S.C. 6305” in its place.

103. The authority citation for 48 CFR parts 15, 16, 17, 19, and 22 continues to read as follows:

Authority: 40 U.S.C. 121(c); 10 U.S.C. chapter 137; and 51 U.S.C. 20113.

PART 15—CONTRACTING BY NEGOTIATION

15.207 [Amended]

104. Amend section 15.207 by removing from paragraph (b) “41 U.S.C. 423” and adding “41 U.S.C. chapter 21, Restrictions on Obtaining and Disclosing Certain Information” in its place.

15.209 [Amended]

105. Amend section 15.209 by removing from the introductory text of paragraph (b)(1) “41 U.S.C. 254d” and adding “41 U.S.C. 4706” in its place.

15.303 [Amended]

106. Amend section 15.303 by—

a. Removing from paragraph (b)(4) “10 U.S.C. 2305(b)(1) and 41 U.S.C. 253b(d)(3)” and adding “10 U.S.C. 2305(b)(4)(C) and 41 U.S.C. 3703(c)” in its place; and

b. Removing from paragraph (b)(6) “10 U.S.C. 2305(b)(4)(B) and 41 U.S.C. 253b(d)(3)” and adding “10 U.S.C. 2305(b)(4)(C) and 41 U.S.C. 3703(c)” in its place.

15.304 [Amended]

107. Amend section 15.304 by—

a. Removing from paragraph (c)(1) “41 U.S.C. 253a(c)(1)(B)” and adding “41 U.S.C. 3306(c)(1)(B)” in its place; and removing from the end of sentence “;” and adding a period in its place;

b. Removing from paragraph (c)(2) “41 U.S.C. 253a(c)(1)(A); and” and adding “3306(c)(1)(A).” in its place;

c. Removing from paragraph (d) “41 U.S.C. 253a(b)(1)(A)” and adding “41 U.S.C. 3306(b)(1)(A)” in its place; and

d. Removing from paragraph (e)(3) “41 U.S.C. 253a(c)(1)(C)” and adding “41 U.S.C. 3306(c)(1)(C)” in its place.

15.306 [Amended]

108. Amend section 15.306 by—

a. Removing from paragraph (a)(3) “41 U.S.C. 253b(d)(1)(B)” and adding “41 U.S.C. 3703(a)(2)” in its place;

b. Removing from paragraph (c)(2) “41 U.S.C. 253b(d)” and adding “41 U.S.C. 3703” in its place; and

c. Removing from paragraphs (e)(3) and (e)(5) “41 U.S.C. 423(h)(1)(2)” and adding “41 U.S.C. 2102 and 2107” in its place.

15.401 [Amended]

109. Amend section 15.401 by removing from the definition “Subcontract” the citation “41 U.S.C. 254b(h)(2)” and adding “41 U.S.C. 3501(a)(3)” in its place.

110. Amend section 15.403-1 by—

a. Revising the section heading;

b. Removing from paragraph (c)(3)(ii) introductory text “section 868 of Pub. L. 110-417” and adding “41 U.S.C. 3501” in its place;

c. Removing from paragraph (c)(3)(ii)(A) “41 U.S.C. 254b” and adding “41 U.S.C. chapter 35” in its place; and

d. Removing from paragraph (c)(3)(iv) “41 U.S.C. 428a” and adding “41 U.S.C. 1903” in its place.

The revised text reads as follows:

15.403-1 Prohibition on obtaining certified cost or pricing data (10 U.S.C. 2306a and 41 U.S.C. chapter 35).

* * * * *

15.403-3 [Amended]

111. Amend section 15.403-3 by—

a. Removing from paragraph (a)(1)(ii) “41 U.S.C. 254b(d)(1)” and adding “41 U.S.C. 3505(a)” in its place; and

b. Removing from the heading of paragraph (c)(2) “41 U.S.C. 254b(d)(2)” and adding “41 U.S.C. 3505(b)” in its place.

112. Amend section 15.403-4 by revising the section heading to read as follows:

15.403-4 Requiring certified cost or pricing data (10 U.S.C. 2306a and 41 U.S.C. chapter 35).

* * * * *

15.404-1 [Amended]

113. Amend section 15.404-1 by removing from paragraph (f)(2) “10 U.S.C. 2304 and 41 U.S.C. 254(d)(5)(A)(i)” and adding “10 U.S.C. 2306a(b)(1)(A)(i) and 41 U.S.C. 3503(a)(1)(A)” in its place.

15.404-2 [Amended]

114. Amend section 15.404-2 by removing from paragraph (c)(2) “41 U.S.C. 254d” and adding “41 U.S.C. 4706” in its place.

15.404-4 [Amended]

115. Amend section 15.404-4 by removing from the introductory text of paragraph (c)(4)(i) “41 U.S.C. 254(b)” and adding “41 U.S.C. 3905” in its place; and removing from paragraph (d)(1)(iii) “handicapped sheltered workshops” and adding “sheltered workshops for workers with disabilities” in its place.

15.407-1 [Amended]

116. Amend section 15.407-1 by removing from paragraph (d)(1) “Disputes Act” and adding “Disputes statute” in its place.

15.503 [Amended]

117. Amend section 15.503 by removing from the introductory text of paragraph (b)(1) “41 U.S.C. 253b(c)” and adding “41 U.S.C. 3704” in its place.

15.505 [Amended]

118. Amend section 15.505 by removing from the introductory text “41 U.S.C. 253b(f)-(h)” and adding “41 U.S.C. 3705” in its place.

PART 16—TYPES OF CONTRACTS

16.102 [Amended]

119. Amend section 16.102 by—

a. Removing from paragraph (b) “41 U.S.C. 254(a)” and adding “41 U.S.C. 3901” in its place; and

b. Removing from paragraph (c) “41 U.S.C. 254(b)” and adding “41 U.S.C. 3905(a)” in its place.

16.501-2 [Amended]

120. Amend section 16.501-2 by removing from paragraph (a) “Pursuant to 10 U.S.C. 2304d and section 303K of the Federal Property and Administrative Service Act of 1949” and adding “Pursuant to 10 U.S.C. 2304d and 41 U.S.C. 4101” in its place.

16.505 [Amended]

121. Amend section 16.505 by—

a. Removing from the introductory text of paragraph (a)(9) “Public Law 108-136” and adding “Public Law 108-136 (40 U.S.C. 1103 note)” in its place; and

b. Removing from paragraphs (b)(2)(ii)(C)(2) and (b)(8) “competition advocate” and adding “advocate for competition” in its place.

PART 17—SPECIAL CONTRACTING METHODS

122. Revise section 17.101 to read as follows:

17.101 Authority.

This subpart implements 41 U.S.C. 3903 and 10 U.S.C. 2306b and provides policy and procedures for the use of multi-year contracting.

123. Amend section 17.109 by revising paragraph (b)(1) to read as follows:

17.109 Contract clauses.

* * * * *

(b) * * *

(1) Shall add the clause at 52.222-43, Fair Labor Standards Act and Service Contract Labor Standards—Price Adjustment (Multiple Year and Option Contracts), when the contract includes the clause at 52.222-41, Service Contract Labor Standards;

* * * * *

17.204 [Amended]

124. Amend section 17.204 by removing from paragraph (e) “Contract Act” and adding “Contract Labor Standards statute” in its place.

125. Amend section 17.501 by revising paragraph (d) to read as follows:

17.501 General.

* * * * *

(d) An agency shall not use an interagency acquisition to make acquisitions conflicting with any other agency's authority or responsibility (for example, that of the Administrator of General Services under title 40, United States Code, “Public Buildings, Property and Works” and 41 U.S.C. division C of subtitle I, Procurement).

17.602 [Amended]

126. Amend section 17.602 by removing from paragraph (a) “the Competition in Contracting Act of 1984” and adding “41 U.S.C. chapter 33” in its place.

PART 19—SMALL BUSINESS PROGRAMS

127. Amend section 19.000 by revising the introductory text of paragraph (a) to read as follows:

19.000 Scope of part.

(a) This part implements the acquisition-related sections of the Small Business Act (15 U.S.C. 631, et seq.); applicable sections of 10 U.S.C. 2302, et seq.; 41 U.S.C. 3104; 10 U.S.C. 2323; and Executive Order 12138, May 18, 1979. It covers—

* * * * *

128. Amend section 19.201 by revising the introductory text of paragraph (d) to read as follows:

19.201 General policy.

* * * * *

(d) The Small Business Act requires each agency with contracting authority to establish an Office of Small and Disadvantaged Business Utilization (see section (k) of the Small Business Act). For the Department of Defense, in accordance with section 904 of the National Defense Authorization Act for Fiscal Year 2006 (Public Law 109-163) (10 U.S.C. 144 note), the Office of Small and Disadvantaged Business Utilization has been redesignated as the Office of Small Business Programs. Management of the office shall be the responsibility of an officer or employee of the agency who shall, in carrying out the purposes of the Act—

* * * * *

19.800 [Amended]

129. Amend section 19.800 by removing from paragraph (a) “agencies and let” and adding “agencies and award” in its place.

19.811-1 [Amended]

130. Amend section 19.811-1 by removing from paragraph (b)(1) “41 U.S.C. 253(c)(5)” and adding “41 U.S.C. 3304(a)(5)” in its place.

19.1304 [Amended]

131. Amend section 19.1304 by removing from paragraph (a)(2) “Javits-Wagner-O'Day Act participating” and adding “AbilityOne participating” in its place.

19.1404 [Amended]

132. Amend section 19.1404 by removing from paragraph (a)(2) “Javits-Wagner-O'Day Act participating” and adding “AbilityOne participating” in its place.

19.1504 [Amended]

133. Amend section 19.1504 by removing from paragraph (b)(2) “Javits-Wagner-O'Day Act participating” and adding “AbilityOne participating” in its place.

PART 22—APPLICATION OF LABOR LAWS TO GOVERNMENT ACQUISITIONS

134. Amend section 22.001 by—

a. Removing from the definition “e98” the words “Contract Act” and adding “Contract Labor Standards statute” in its place; and

b. Revising the definitions “Service Contract” and “Wage Determinations Online (WDOL)” to read as follows:

22.001 Definitions.

* * * * *

Service contract means any Government contract, or subcontract thereunder, the principal purpose of which is to furnish services in the United States through the use of service employees, except as exempted by 41 U.S.C. chapter 67, Service Contract Labor Standards; see 22.1003-3 and 22.1003-4. See 22.1003-5 and 29 CFR 4.130 for a partial list of services covered by the Service Contract Labor Standards statute.

* * * * *

Wage Determinations OnLine (WDOL) means the Government Internet Web site for both Construction Wage Rate Requirements statute and Service Contract Labor Standards statute wage determinations available at http://www.wdol.gov.

22.102-1 [Amended]

135. Amend section 22.102-1 by removing from paragraph (h) “the handicapped” and adding “workers with disabilities” in its place.

136. Amend section 22.102-2 by revising paragraph (c) to read as follows:

22.102-2 Administration.

* * * * *

(c)(1) The U.S. Department of Labor is responsible for the administration and enforcement of the Occupational Safety and Health Act. The Department of Labor's Wage and Hour Division is responsible for administration and enforcement of numerous wage and hour statutes including—

(i) 40 U.S.C. chapter 31, subchapter IV, Wage Rate Requirements (Construction);

(ii) 40 U.S.C. chapter 37, Contract Work Hours and Safety Standards;

(iii) The Copeland Act (18 U.S.C. 874 and 40 U.S.C. 3145);

(iv) 41 U.S.C. chapter 65, Contracts for Materials, Supplies, Articles, and Equipment Exceeding $15,000;

(v) 41 U.S.C. chapter 67, Service Contract Labor Standards.

(2) Contracting officers should contact the Wage and Hour Division's regional offices when required by the subparts relating to these statutes unless otherwise specified. Addresses for these offices may be found at Appendix B to 29 CFR Part 1.

137. Amend section 22.202 by revising paragraph (a) to read as follows:

22.202 Contract clause.

* * * * *

(a) The contract will be subject to 41 U.S.C. chapter 65, Contracts for Materials, Supplies, Articles, and Equipment Exceeding $15,000 (see subpart 22.6), which contains a separate prohibition against the employment of convict labor;

* * * * *

138. Revise section 22.300 to read as follows:

22.300 Scope of subpart.

This subpart prescribes policies and procedures for applying the requirements of 40 U.S.C. chapter 37, Contract Work Hours and Safety Standards (the statute) to contracts that may require or involve laborers or mechanics. In this subpart, the term “laborers or mechanics” includes apprentices, trainees, helpers, watchmen, guards, firefighters, fireguards, and workmen who perform services in connection with dredging or rock excavation in rivers or harbors, but does not include any employee employed as a seaman.

22.301 [Amended]

139. Amend section 22.301 by removing “Act requires” and adding “statute requires” in its place.

22.302 [Amended]

140. Amend section 22.302 by removing from paragraph (a), and the introductory text of paragraphs (b) and (c), “the Act” and adding “the statute” in its place.

22.303 [Amended]

141. Amend section 22.303 by removing “the Act” and adding “the statute” in its place.

22.304 [Amended]

142. Amend section 22.304 by removing from paragraph (a) “the Act” and adding “the statute” in its place.

143. Amend section 22.305 by revising the introductory text and paragraphs (d) and (e) to read as follows:

22.305 Contract clause.

Insert the clause at 52.222-4, Contract Work Hours and Safety Standards—Overtime Compensation, in solicitations and contracts (including, for this purpose, basic ordering agreements) when the contract may require or involve the employment of laborers or mechanics. However, do not include the clause in solicitations and contracts—

* * * * *

(d) To be performed outside the United States, Puerto Rico, American Samoa, Guam, the U.S. Virgin Islands, Johnston Island, Wake Island, and the outer Continental Shelf as defined in the Outer Continental Shelf Lands Act (43 U.S.C. 1331) (29 CFR 5.15);

(e) For work to be done solely in accordance with 41 U.S.C. chapter 65, Contracts for Materials, Supplies, Articles, and Equipment Exceeding $15,000 (see subpart 22.6);

* * * * *

22.401 [Amended]

144. Amend section 22.401 by removing from the definition “Laborers or mechanics”, paragraph (1)(ii), “Standards Act” and adding “Standards statute” in its place; and removing from the definition “Wages” the words “Davis-Bacon Act” and adding “Construction Wage Rate Requirements statute” in its place.

22.402 [Amended]

145. Amend section 22.402 by removing from paragraph (b)(1)(ii) “Davis Bacon Act” and adding “Construction Wage Rate Requirements statute” in its place.

146. Revise section 22.403-1 to read as follows:

22.403-1 Construction Wage Rate Requirements statute.

40 U.S.C. chapter 31, subchapter IV, Wage Rate Requirements (Construction), formerly known as the Davis-Bacon Act, provides that contracts in excess of $2,000 to which the United States or the District of Columbia is a party for construction, alteration, or repair (including painting and decorating) of public buildings or public works within the United States, shall contain a clause (see 52.222-6) that no laborer or mechanic employed directly upon the site of the work shall receive less than the prevailing wage rates as determined by the Secretary of Labor.

147. Revise section 22.403-3 to read as follows:

22.403-3 Contract Work Hours and Safety Standards.

40 U.S.C. chapter 37, Contract Work Hours and Safety Standards, requires that certain contracts (see 22.305) contain a clause (see 52.222-4) specifying that no laborer or mechanic doing any part of the work contemplated by the contract shall be required or permitted to work more than 40 hours in any workweek unless paid for all additional hours at not less than 1 1/2 times the basic rate of pay (see 22.301).

148. Amend section 22.403-4 by revising paragraph (b) to read as follows:

22.403-4 Department of Labor regulations.

* * * * *

(b) The Department of Labor regulations include—

(1) Part 1, relating to Construction Wage Rate Requirements statute minimum wage rates;

(2) Part 3, relating to the Copeland (Anti-Kickback) Act and requirements for submission of weekly statements of compliance and the preservation and inspection of weekly payroll records;

(3) Part 5, relating to enforcement of the:

(i) Construction Wage Rate Requirements statute;

(ii) Contract Work Hours and Safety Standards statute; and

(iii) Copeland (Anti-Kickback) Act;

(4) Part 6, relating to rules of practice for appealing the findings of the Administrator, Wage and Hour Division, in enforcement cases under the various labor statutes, and by which Administrative Law Judge hearings are held; and

(5) Part 7, relating to rules of practice by which contractors and other interested parties may appeal to the Department of Labor Administrative Review Board, decisions issued by the Administrator, Wage and Hour Division, or administrative law judges under the various labor statutes.

* * * * *

149. Amend section 22.404 by revising the section heading to read as follows:

22.404 Construction Wage Rate Requirements statute wage determinations.

* * * * *

22.404-1 [Amended]

150. Amend section 22.404-1 by removing from paragraph (a)(2) “Davis-Bacon Act” and adding “Construction Wage Rate Requirements statute” in its place.

22.404-11 [Amended]

151. Amend section 22.404-11 by removing “Davis-Bacon Act” and adding “Construction Wage Rate Requirements statute” in its place.

22.404-12 [Amended]

152. Amend section 22.404-12 by removing from paragraph (c)(3) “Davis-Bacon Act” and adding “Construction Wage Rate Requirements statute” in its place; and removing from paragraph (c)(4) “Service Contract Act” and adding “Service Contract Labor Standards statute” in its place.

22.406-2 [Amended]

153. Amend section 22.406-2 by removing from the introductory text of paragraph (b)(1) “Davis-Bacon Act” and adding “Construction Wage Rate Requirements” in its place.

22.406-3 [Amended]

154. Amend section 22.406-3 by removing from paragraph (a) “Davis-Bacon Act” and adding “Construction Wage Rate Requirements” in its place.

22.406-8 [Amended]

155. Amend section 22.406-8 by—

a. Removing from paragraph (d)(2)(i)(B) “Davis-Bacon Act” and adding “Construction Wage Rate Requirements statute” in its place;

b. Removing from paragraph (d)(2)(ii)(D) “Standards Act” and adding “Standards statute” in its place;

c. Removing from paragraph (e)(2) “Davis-Bacon Act” and adding “Construction Wage Rate Requirements statute” in its place; and

d. Removing from paragraph (e)(3) “Standards Act” and adding “Standards statute” in its place.

156. Amend section 22.406-9 by—

a. Removing from the introductory text of paragraph (a) “Standards Act” and adding “Standards statute” in its place;

b. Removing from paragraph (a)(1) “Davis-Bacon Act” and “Standards Act” and adding “Construction Wage Rate Requirements statute” and “Standards statute” in their place, respectively;

c. Removing from paragraph (b) “Davis-Bacon Act” and adding “Construction Wage Rate Requirements statute” in its place; and

d. Revising paragraph (c)(1) to read as follows:

22.406-9 Withholding from or suspension of contract payments.

* * * * *

(c) Disposition of contract payments withheld or suspended—(1) Forwarding wage underpayments to the Comptroller General. Upon final administrative determination, if the contractor or subcontractor has not made restitution, the contracting officer must forward to the appropriate disbursing office Standard Form (SF) 1093, Schedule of Withholdings Under the Construction Wage Rate Requirements statute (40 U.S.C. chapter 31, subchapter IV) and/or Contract Work Hours and Safety Standards statute (40 U.S.C. chapter 37). Attach to the SF 1093 a list of the name, social security number, and last known address of each affected employee; the amount due each employee; employee claims if feasible; and a brief rationale for restitution. Also, the contracting officer must indicate if restitution was not made because the employee could not be located. The Government may assist underpaid employees in preparation of their claims. The disbursing office must submit the SF 1093 with attached additional data and the funds withheld (by check) to the Comptroller General (Claims Section).

* * * * *

157. Amend section 22.406-10 by revising paragraph (f) to read as follows:

22.406-10 Disposition of disputes concerning construction contract labor standards enforcement.

* * * * *

(f) The Administrator, Wage and Hour Division, may institute debarment proceedings against the contractor or subcontractor if the Administrator finds reasonable cause to believe that the contractor or subcontractor has committed willful or aggravated violations of the Contract Work Hours and Safety Standards statute or the Copeland (Anti-Kickback) Act, or any of the applicable statutes listed in 29 CFR 5.1 other than the Construction Wage Rate Requirements statute, or has committed violations of the Construction Wage Rate Requirements statute that constitute a disregard of its obligations to employees or subcontractors under 40 U.S.C. 3144.

158. Amend section 22.406-12 by revising paragraph (b) to read as follows:

22.406-12 Cooperation with the Department of Labor.

* * * * *

(b) If a Department of Labor representative undertakes an investigation at a construction project, the contracting officer shall inquire into the scope of the investigation, and request to be notified immediately of any violations discovered under the Construction Wage Rate Requirements statute, the Contract Work Hours and Safety Standards statute, or the Copeland (Anti-Kickback) Act.

159. Revise section 22.406-13 to read as follows:

22.406-13 Semiannual enforcement reports.

A semiannual report on compliance with and enforcement of the construction labor standards requirements of the Construction Wage Rate Requirements statute and Contract Work Hours and Safety Standards statute is required from each contracting agency. The reporting periods are October 1 through March 31 and April 1 through September 30. The reports shall only contain information as to the enforcement actions of the contracting agency and shall be prepared as prescribed in Department of Labor memoranda and submitted to the Department of Labor within 30 days after the end of the reporting period. This report has been assigned interagency report control number 1482-DOL-SA.

160. Amend section 22.407 by—

a. Removing from paragraph (a)(1) “Davis-Bacon Act” and adding “Construction Wage Rate Requirements” in its place;

b. Revising paragraph (a)(8);

c. Removing from the introductory text of paragraph (e) “Davis-Bacon Act” and adding “Construction Wage Rate Requirements” in its place;

d. Removing from paragraph (e)(1) and (e)(2) “Davis-Bacon Act” and adding “Construction Wage Rate Requirements statute” in its place;

e. Revising paragraphs (f) and (g); and

f. Removing from paragraph (h) “Davis-Bacon Act” and adding “Construction Wage Rate Requirements” in its place.

The revised text reads as follows:

22.407 Solicitation provision and contract clauses.

(a) * * *

(8) 52.222-13, Compliance with Construction Wage Rate Requirements and Related Regulations.

* * * * *

(f) Insert the clause at 52.222-31, Construction Wage Rate Requirements—Price Adjustment (Percentage Method), in solicitations and contracts if the contract is expected to be a fixed-price contract subject to the Construction Wage Rate Requirements statute that will contain option provisions by which the contracting officer may extend the term of the contract, and the contracting officer determines the most appropriate contract price adjustment method is the method at 22.404-12(c)(3).

(g) Insert the clause at 52.222-32, Construction Wage Rate Requirements—Price Adjustment (Actual Method), in solicitations and contracts if the contract is expected to be a fixed-price contract subject to the Construction Wage Rate Requirements statute that will contain option provisions by which the contracting officer may extend the term of the contract, and the contracting officer determines the most appropriate method to establish contract price is the method at 22.404-12(c)(4).

* * * * *

161. Revise the heading of subpart 22.6 to read as follows:

Subpart 22.6—Contracts For Materials, Supplies, Articles, and Equipment Exceeding $15,000

162. Revise section 22.602 to read as follows:

22.602 Statutory requirements.

Except for the exemptions at 22.604, all contracts subject to 41 U.S.C. chapter 65, Contracts for Materials, Supplies, Articles, and Equipment Exceeding $15,000 (the statute), and entered into by any executive department, independent establishment, or other agency or instrumentality of the United States, or by the District of Columbia, or by any corporation (all the stock of which is beneficially owned by the United States) for the manufacture or furnishing of materials, supplies, articles, and equipment (referred to in this subpart as supplies) in any amount exceeding $15,000, shall include or incorporate by reference the stipulations required by the statute pertaining to such matters as minimum wages, maximum hours, child labor, convict labor, and safe and sanitary working conditions.

22.604-1 [Amended]

163. Amend section 22.604-1 by removing from the introductory text “the Act” and adding “the statute” in its place.

22.604-2 [Amended]

164. Amend section 22.604-2 by removing from paragraph (a) introductory text and paragraph (a)(3) “the Act” and adding “the statute” in their places.

22.605 [Amended]

165. Amend section 22.605 by

a. Revising the section heading, and

b. Removing from paragraphs (a) introductory text, (a)(1), (a)(2), (a)(3), (a)(4), and (a)(5) “the Act” and adding “the statute” in their places (eight times).

The revised text reads as follows:

22.605 Rulings and interpretations of the statute.

* * * * *

22.608 [Amended]

166. Amend section 22.608 by removing from paragraphs (a) and (b) “the Act” and adding “the statute” in their places.

167. Revise section 22.610 to read as follows:

22.610 Contract clause.

The contracting officer shall insert the clause at 52.222-20, Contracts for Materials, Supplies, Articles, and Equipment Exceeding $15,000, in solicitations and contracts covered by the statute (see 22.603, 22.604, and 22.605).

168. Revise the heading of subpart 22.10 to read as follows:

Subpart 22.10—Service Contract Labor Standards

169. Revise section 22.1000 to read as follows:

22.1000 Scope of subpart.

This subpart prescribes policies and procedures implementing the provisions of 41 U.S.C. chapter 67, Service Contract Labor Standards (formerly known as the Service Contract Act of 1965), the applicable provisions of the Fair Labor Standards Act of 1938, as amended (29 U.S.C. 201, et seq.), and related Secretary of Labor regulations and instructions (29 CFR parts 4, 6, 8, and 1925).

170. Amend section 22.1001 by—

a. Removing the definition “Act or Service Contract Act”;

b. Removing from the definition “Contractor” the words “the Act” and adding “the statute” in its place; and

c. Revising the definitions, “United States”, “Wage and Hour Division”, and “Wage determination” to read as follows:

22.1001 Definitions.

* * * * *

United States means the 50 States, the District of Columbia, Puerto Rico, the Northern Mariana Islands, American Samoa, Guam, the U.S. Virgin Islands, Johnston Island, Wake Island, and the outer Continental Shelf as defined in the Outer Continental Shelf Lands Act (43 U.S.C. 1331, et seq.), but does not include any other place subject to U.S. jurisdiction or any U.S. base or possession within a foreign country (29 CFR 4.112).

Wage and Hour Division means the unit in the Employment Standards Administration of the Department of Labor to which is assigned functions of the Secretary of Labor under the Service Contract Labor Standards statute.

Wage determination means a determination of minimum wages or fringe benefits made under 41 U.S.C. 6703 or 6707(c) applicable to the employment in a given locality of one or more classes of service employees.

22.1002-1 [Amended]

171. Amend section 22.1002-1 by removing “41 U.S.C. 353(d)” and adding “41 U.S.C. 6707(d)” in its place.

172. Revise section 22.1003-2 to read as follows:

22.1003-2 Geographical coverage of the Service Contract Labor Standards statute.

The Service Contract Labor Standards statute applies to service contracts performed in the United States (see 22.1001). The Service Contract Labor Standards statute does not apply to contracts performed outside the United States.

173. Amend section 22.1003-3 by revising the introductory text and paragraph (b) to read as follows:

22.1003-3 Statutory exemptions.

The Service Contract Labor Standards statute does not apply to—

* * * * *

(b) Any work required to be done in accordance with the provisions of 41 U.S.C. chapter 65, Contracts for Materials, Supplies, Articles, and Equipment Exceeding $15,000;

* * * * *

174. Amend section 22.1003-4 by—

a. Revising paragraph (a);

b. Removing from the introductory text of paragraph (b) “the Act” and adding “the Service Contract Labor Standards statute” in its place;

c. Removing from the introductory text of paragraph (c)(1) “the Act” and adding “the Service Contract Labor Standards statute” in its place;

d. Removing from paragraph (c)(3)(i) “Contract Act” and adding “Contract Labor Standards statute” in its place;

e. Removing from paragraphs (c)(3)(ii) and (c)(3)(iii) “Contract Act” and adding “Contract Labor Standards” in its place;

f. Removing from paragraph (c)(4)(i) “Contract Act” and adding “Contract Labor Standards statute” in its place;

g. Removing from paragraph (c)(4)(ii), and the introductory text of paragraph (d)(1), “the Act” and adding “the Service Contract Labor Standards statute” in their places;

h. Removing from paragraph (d)(1)(iv) “Davis-Bacon Act” and adding “Construction Wage Rate Requirements statute” in its place;

i. Removing from paragraphs (d)(3)(i), (d)(3)(ii), and (d)(3)(iii) “Contract Act” and adding “Contract Labor Standards” in their places;

j. Removing from paragraph (d)(4)(i) “Contract Act” and “the Act” and adding “Contract Labor Standards statute” and “the Service Contract Labor Standards statute” in its place; and

k. Revising paragraphs (d)(5)(i) and (d)(5)(iii).

The revised text reads as follows:

22.1003-4 Administrative limitations, variations, tolerances, and exemptions.

(a) The Secretary of Labor may provide reasonable limitations and may make rules and regulations allowing reasonable variations, tolerances, and exemptions to and from any or all provisions of the Service Contract Labor Standards statute other than 41 U.S.C. 6707(f). These will be made only in special circumstances where it has been determined that the limitation, variation, tolerance, or exemption is necessary and proper in the public interest or to avoid the serious impairment of Government business, and is in accord with the remedial purpose of the Service Contract Labor Standards statute to protect prevailing labor standards (41 U.S.C. 6707(b)). See 29 CFR 4.123 for a listing of administrative exemptions, tolerances, and variations. Requests for limitations, variances, tolerances, and exemptions from the Service Contract Labor Standards statute shall be submitted in writing through contracting channels and the agency labor advisor to the Wage and Hour Administrator.

* * * * *

(d) * * *

(5) * * *

(i) Awarded under 41 U.S.C. chapter 85, Committee for Purchase from People Who Are Blind or Severely Disabled (see subpart 8.7).

* * * * *

(iii) Subject to 41 U.S.C. 6707(c) (see 22.1002-3).

22.1003-5 [Amended]

175. Amend section 22.1003-5 by removing from the introductory text “the Act” and adding “the Service Contract Labor Standards statute” in its place.

176. Amend section 22.1003-6 by revising paragraph (a) introductory text; and by removing from paragraph (b) introductory text “Contract Act” and adding “Contract Labor Standards statute” in its place.

The revised text reads as follows:

22.1003-6 Repair distinguished from remanufacturing of equipment.

(a) Contracts principally for remanufacturing of equipment which is so extensive as to be equivalent to manufacturing are subject to 41 U.S.C. chapter 65, Contracts for Materials, Supplies, Articles, and Equipment Exceeding $15,000, rather than to the Service Contract Labor Standards statute. Remanufacturing shall be deemed to be manufacturing when the criteria in either paragraphs (a)(1) or (a)(2) of this subsection are met.

* * * * *

177. Amend section 22.1003-7 by—

a. Revising the section heading; and

b. Removing “the Act” and adding “the Service Contract Labor Standards statute” in its place.

The revised text reads as follows:

22.1003-7 Questions concerning applicability of the Service Contract Labor Standards statute.

* * * * *

22.1004 [Amended]

178. Amend section 22.1004 by removing from the introductory text and paragraph (c) “the Act” and adding “the Service Contract Labor Standards statute” in its place (three times).

179. Amend section 22.1006 by—

a. Removing from the introductory text of paragraph (a)(1) the words “Act of 1965” and “the Act” and adding “Labor Standards” and “the Service Contract Labor Standards statute” in their place, respectively;

b. Removing from the introductory text of paragraph (a)(2) “Contract Act” and adding “Contract Labor Standards statute” in its place;

c. Removing from paragraphs (a)(2)(i)(A) and (a)(2)(i)(B) the words “Contract Act” and adding “Contract Labor Standards” in their places;

d. Revising paragraph (a)(2)(ii);

e. Removing from paragraph (b) “the Act” and adding “the Service Contract Labor Standards statute” in its place;

f. Removing from paragraphs (c)(1) and (c)(2) the words “Service Contract Act” and “Service Contract Act of 1965” and adding “Service Contract Labor Standards” in their places (six times);

g. Revising paragraphs (e)(1), (e)(2), (e)(3)(i), (e)(4), and (f).

The revised text reads as follows:

22.1006 Solicitation provisions and contract clauses.

(a) * * *

(2) * * *

(ii) The contracting officer has made the determination, in accordance with paragraphs (c)(3) or (d)(3) of subsection 22.1003-4, that the Service Contract Labor Standards statute does not apply to the contract. (In such case, insert the clause at 52.222-51, Exemption from Application of the Service Contract Labor Standards to Contracts for Maintenance, Calibration, or Repair of Certain Equipment—Requirements, or 52.222-53, Exemption from Application of the Service Contract Labor Standards to Contracts for Certain Services—Requirements, in the contract, in accordance with the prescription at paragraph (e)(2)(ii) or (e)(4)(ii) of this subsection).

* * * * *

(e)(1) The contracting officer shall insert the provision at 52.222-48, Exemption from Application of the Service Contract Labor Standards to Contracts for Maintenance, Calibration, or Repair of Certain Equipment—Certification, in solicitations that—

(i) Include the clause at 52.222-41, Service Contract Labor Standards; and

(ii) The contract may be exempt from the Service Contract Labor Standards statute in accordance with 22.1003-4(c).

(2) The contracting officer shall insert the clause at 52.222-51, Exemption from Application of the Service Contract Labor Standards to Contracts for Maintenance, Calibration, or Repair of Certain Equipment—Requirements—

(i) In solicitations that include the provision at 52.222-48, or the comparable provision is checked as applicable in the clause at 52.204-8(c)(2)(iii) or 52.212-3(k)(1); and

(ii) In resulting contracts in which the contracting officer has determined, in accordance with 22.1003-4(c)(3), that the Service Contract Labor Standards statute does not apply.

(3)(i) Except as provided in paragraph (e)(3)(ii) of this section, the contracting officer shall insert the provision at 52.222-52, Exemption from Application of the Service Contract Labor Standards to Contracts for Certain Services—Certification, in solicitations that—

(A) Include the clause at 52.222-41, Service Contract Labor Standards, and

(B) The contract may be exempt from the Service Contract Labor Standards statute in accordance with 22.1003-4(d).

* * * * *

(4) The contracting officer shall insert the clause at 52.222-53, Exemption from Application of the Service Contract Labor Standards to Contracts for Certain Services—Requirements—

(i) In solicitations that include the provision at 52.222-52, or the comparable provision is checked as applicable in 52.204-8(c)(2)(iv) or 52.212-3(k)(2); and

(ii) In resulting contracts in which the contracting officer has determined, in accordance with 22.1003-4(d)(3), that the Service Contract Labor Standards statute does not apply.

(f) The contracting officer shall insert the clause at 52.222-49, Service Contract Labor Standards—Place of Performance Unknown, if using the procedures prescribed in 22.1009-4.

* * * * *

22.1008-1 [Amended]

180. Amend section 22.1008-1 by removing from paragraph (e)(3) “whether Section 4(c) of the Act applies” and adding “whether 41 U.S.C. 6707(c) applies” in its place.

181. Amend section 22.1008-2 by—

a. Revising the section heading and paragraph (a);

b. Removing from paragraphs (b) introductory text and (c)(1) introductory text “Section 4(c) of the Act” and adding “41 U.S.C. 6707(c)” in its place;

c. Removing from paragraphs (c) introductory text and (c)(2) introductory text “section 4(c) of the Act” and adding “41 U.S.C. 6707(c)” in its place;

d. Removing from paragraph (d)(1) “section 4(c) of the Act” and adding “41 U.S.C. 6707(c)” in its place; and removing “Service Contract Act of 1965” and adding “Service Contract Labor Standards” in its place;

e. Removing from paragraph (d)(3) “applicability of the Act” and adding “applicability of the Service Contract Labor Standards statute” in its place; and

f. Removing from paragraph (e)(1) “Section 4(c) of the Act” and adding “41 U.S.C. 6707(c)” in its place.

The revised text reads as follows:

22.1008-2 Successorship with incumbent contractor collective bargaining agreement.

(a) Early in the acquisition cycle, the contracting officer shall determine whether 41 U.S.C. 6707(c) affects the new acquisition. The contracting officer shall determine whether there is a predecessor contract covered by the Service Contract Labor Standards statute and, if so, whether the incumbent prime contractor or its subcontractors and any of their employees have a collective bargaining agreement.

* * * * *

22.1009-4 [Amended]

182. Amend section 22.1009-4 by removing from paragraph (b) “Service Contract Act-Place” and adding “Service Contract Labor Standards-Place” in its place; and removing from paragraph (e)(3) “Service Contract-Place” and adding “Service Contract Labor Standards-Place” in its place.

22.1012-2 [Amended]

183. Amend section 22.1012-2 by removing from paragraphs (a) and (b) “section 4(c) of the Act” and adding “41 U.S.C. 6707(c)” in their places (three times).

22.1015 [Amended]

184. Amend section 22.1015 by removing “Service Contract Act” and “section 10 of the Act (41 U.S.C. 358)” and adding “Service Contract Labor Standards statute” and “41 U.S.C. 6707(f)” in their place, respectively.

22.1018 [Amended]

185. Amend section 22.1018 by—

a. Removing from paragraph (a) “the Act” and adding “the Service Contract Labor Standards statute” in its place; and

b. Removing from paragraph (b) “the Act” and “Service Contract Act of 1965” and adding “the Service Contract Labor Standards statute” and “Service Contract Labor Standards” in their place, respectively.

22.1019 [Amended]

186. Amend section 22.1019 by—

a. Removing from paragraph (a) “Service Contract Act of 1965” and adding “Service Contract Labor Standards” in its place; and

b. Removing from paragraph (c) “handicapped workers” and “Service Contract Act of 1965” and adding “disabled workers” and “Service Contract Labor Standards” in their place, respectively.

22.1020 [Amended]

187. Amend section 22.1020 by removing “Service Contract Act of 1965” and adding “Service Contract Labor Standards” in its place.

22.1022 [Amended]

188. Amend section 22.1022 by removing “Service Contract Act of 1965” and “Service Contract Act” and adding “Service Contract Labor Standards” and “Service Contract Labor Standards statute” in their place, respectively.

189. Revise section 22.1023 to read as follows:

22.1023 Termination for default.

As provided by the Service Contract Labor Standards statute, any contractor failure to comply with the requirements of the contract clauses related to the Service Contract Labor Standards statute may be grounds for termination for default (see paragraph (k) of the clause at 52.222-41, Service Contract Labor Standards).

22.1025 [Amended]

190. Amend section 22.1025 by removing “the Act” and adding “the Service Contract Labor Standards statute” in its place twice.

22.1026 [Amended]

191. Amend section 22.1026 by removing “Act of 1965” and adding “Labor Standards” in its place.

192. Revise section 22.1101 to read as follows:

22.1101 Applicability.

The Service Contract Act of 1965, now codified at 41 U.S.C. chapter 67, Service Contract Labor Standards, was enacted to ensure that Government contractors compensate their blue-collar service workers and some white-collar service workers fairly, but it does not cover bona fide executive, administrative, or professional employees.

22.1204 [Amended]

193. Amend section 22.1204 by removing from paragraph (a) “Act of 1965” and adding “Labor Standards” in its place.

194. Revise section 22.1502 to read as follows:

22.1502 Policy.

Agencies must take appropriate action to enforce the laws prohibiting the manufacture or importation of products that have been mined, produced, or manufactured wholly or in part by forced or indentured child labor, consistent with 19 U.S.C. 1307, 29 U.S.C. 201, et seq., and 41 U.S.C. chapter 65. Agencies should make every effort to avoid acquiring such products.

PART 23—ENVIRONMENT, ENERGY AND WATER EFFICIENCY, RENEWABLE ENERGY TECHNOLOGIES, OCCUPATIONAL SAFETY, AND DRUG-FREE WORKPLACE

195. The authority citation for 48 CFR part 23 is revised to read as follows:

Authority: 40 U.S.C. 121(c); 10 U.S.C. chapter 137; and 51 U.S.C. 20113.

196. Revise section 23.500 to read as follows:

23.500 Scope of subpart.

This subpart implements 41 U.S.C. chapter 81, Drug-Free Workplace.

197. Revise section 23.502 to read as follows:

23.502 Authority.

41 U.S.C. chapter 81, Drug-Free Workplace.

198. Amend section 23.704 by revising paragraph (b)(1)(ii) to read as follows:

23.704 Electronic products environmental assessment tool.

* * * * *

(b) * * *

(1) * * *

(ii) Is a voluntary consensus standard consistent with section 12(d) of Pub. L. 104-113 (15 U.S.C. 272 note), the “National Technology Transfer and Advancement Act of 1995”, (see 11.102(c));

* * * * *

PART 24—PROTECTION OF PRIVACY AND FREEDOM OF INFORMATION

199. The authority citation for 48 CFR part 24 is revised to read as follows:

Authority: 40 U.S.C. 121(c); 10 U.S.C. chapter 137; and 51 U.S.C. 20113.

24.202 [Amended]

200. Amend section 24.202 by—

a. Removing from paragraph (a) “41 U.S.C. 253b(m)” and adding “41 U.S.C. 4702” in its place; and

b. Removing from paragraph (b) “41 U.S.C. 254b(d)(2)(C)” and adding “41 U.S.C. 3505(b)(3)” in its place.

201. The authority citation for 48 CFR parts 25 and 26 continues to read as follows:

Authority: 40 U.S.C. 121(c); 10 U.S.C. chapter 137; and 51 U.S.C. 20113.

PART 25—FOREIGN ACQUISITION

202. Amend section 25.000 by revising paragraph (b) to read as follows:

25.000 Scope of part.

* * * * *

(b) It implements 41 U.S.C. chapter 83, Buy American; trade agreements; and other laws and regulations.

203. Amend section 25.001 by—

a. Revising the introductory text of paragraph (a); and

b. Removing from paragraphs (b), (c) introductory text, and (c)(1) “Buy American Act” and adding “Buy American statute” in its place.

The revised text reads as follows:

25.001 General.

(a) 41 U.S.C. chapter 83, Buy American—

* * * * *

204. Amend section 25.002 by revising the entries for 25.1 through 25.6 in the table to read as follows:

25.002 Applicability of subparts.

* * * * *

Subpart | Supplies for use: Inside U.S. | Supplies for use: Outside U.S. | Construction: Inside U.S. | Construction: Outside U.S. | Services performed: Inside U.S. | Services performed: Outside U.S.
25.1 Buy American—Supplies | X |  |  |  |  |
25.2 Buy American—Construction Materials |  |  | X |  |  |
25.3 Contracts Performed Outside the United States |  | X |  | X |  | X
25.4 Trade Agreements | X | X | X | X | X | X
25.5 Evaluating Foreign Offers—Supply Contracts | X | X |  |  |  |
25.6 American Recovery and Reinvestment Act—Buy American statute—Construction Materials |  |  | X |  |  |
* * * * * * *

205. Revise the heading of subpart 25.1 to read as follows:

Subpart 25.1—Buy American—Supplies

206. Amend section 25.100 by revising paragraphs (a)(1) and (a)(3) to read as follows:

25.100 Scope of subpart.

(a) * * *

(1) 41 U.S.C. chapter 83, Buy American;

* * * * *

(3) Waiver of the component test of the Buy American statute for acquisition of commercially available off-the-shelf (COTS) items in accordance with 41 U.S.C. 1907.

* * * * *

25.101 [Amended]

207. Amend section 25.101 by—

a. Removing from the introductory text of paragraph (a) “Buy American Act” and adding “Buy American statute” in its place (two times);

b. Removing from paragraph (a)(2) “41 U.S.C. 431” and “Buy American Act” and adding “41 U.S.C. 1907” and “Buy American statute” in their place, respectively; and

c. Removing from paragraph (b) “Buy American Act” and adding “Buy American statute” in its place.

25.103 [Amended]

208. Amend section 25.103 by removing from the introductory text, paragraphs (a), (b) introductory text, and (b)(1)(iii)(A) “Buy American Act” and adding “Buy American statute” in its place.

25.105 [Amended]

209. Amend section 25.105 by removing from the introductory text of paragraph (b) “Buy American Act” and adding “Buy American statute” in its place.

210. Revise the heading of subpart 25.2 to read as follows:

Subpart 25.2—Buy American—Construction Materials

211. Amend section 25.200 by revising paragraphs (a)(1) and (a)(3) to read as follows:

25.200 Scope of subpart.

(a) * * *

(1) 41 U.S.C. chapter 83, Buy American;

* * * * *

(3) Waiver of the component test of the Buy American statute for acquisitions of commercially available off-the-shelf (COTS) items in accordance with 41 U.S.C. 1907.

* * * * *

25.202 [Amended]

212. Amend section 25.202 by removing from paragraphs (a) introductory text and (a)(1) “Buy American Act” and adding “Buy American statute” in its place (three times).

25.203 [Amended]

213. Amend section 25.203 by removing from paragraph (a) “Buy American Act” and adding “Buy American statute” in its place.

25.204 [Amended]

214. Amend section 25.204 by removing from paragraph (b) “Buy American Act” and adding “Buy American statute” in its place.

25.205 [Amended]

215. Amend section 25.205 by removing from paragraphs (a), (b), and (c) “Buy American Act” and adding “Buy American statute” in their places.

25.206 [Amended]

216. Amend section 25.206 by removing from paragraphs (a), (c)(1), and (c)(3) “Buy American Act” and adding “Buy American statute” in their places (four times).

25.400 [Amended]

217. Amend section 25.400 by removing from paragraph (a)(6) “Buy American Act” and adding “Buy American statute” in its place.

25.402 [Amended]

218. Amend section 25.402 by removing from the introductory text of paragraph (a)(1) “Buy American Act” and adding “Buy American statute” in its place (two times).

25.405 [Amended]

219. Amend section 25.405 by removing “(Pub. L. 109-53)” and adding “(Pub. L. 109-53) (19 U.S.C. 4031)” in its place.

25.406 [Amended]

220. Amend section 25.406 by removing “Buy American Act” and adding “Buy American statute” in its place.

25.407 [Amended]

221. Amend section 25.407 by removing “Buy American Act” and adding “Buy American statute” in its place.

25.501 [Amended]

222. Amend section 25.501 by removing from paragraph (d) “Buy American Act” and adding “Buy American statute” in its place.

25.502 [Amended]

223. Amend section 25.502 by removing from paragraphs (c) introductory text, (c)(3), (d)(2), and (d)(3) “Buy American Act” and adding “Buy American statute” in its place.

224. Amend section 25.504-1 by revising the section heading; and removing from paragraphs (a)(2) and (b)(2) “Buy American Act” and adding “Buy American statute” in its place.

The revised text reads as follows:

25.504-1 Buy American statute.

* * * * *

25.504-4 [Amended]

225. Amend section 25.504-4 by removing from paragraph (b) under the heading “Problem” the words “Buy American Act” and adding “Buy American statute” in its place.

226. Revise the heading of subpart 25.6 to read as follows:

Subpart 25.6—American Recovery and Reinvestment Act—Buy American Statute—Construction Materials

25.600 [Amended]

227. Amend section 25.600 by removing “the Buy American Act” and adding “41 U.S.C. chapter 83, Buy American (referred to in this subpart as the Buy American statute)” in its place.

25.601 [Amended]

228. Amend section 25.601 by removing from paragraph (1) of the definition “Domestic construction material” the words “Buy American Act” and adding “Buy American statute” in its place.

229. Amend section 25.602-2 by revising the section heading; and removing “Buy American Act” and adding “Buy American statute” in its place. The revised text reads as follows:

25.602-2 Buy American statute.

* * * * *

25.603 [Amended]

230. Amend section 25.603 by removing from paragraphs (a)(1) introductory text, (a)(1)(iii), and (a)(2) “Buy American Act” and adding “Buy American statute” in its place.

231. Amend section 25.604 by revising the section heading; and removing from paragraph (a) “Buy American Act” and adding “Buy American statute” in its place. The revised text reads as follows:

25.604 Preaward determination concerning the inapplicability of section 1605 of the Recovery Act or the Buy American statute.

* * * * *

25.606 [Amended]

232. Amend section 25.606 by removing from paragraphs (a), (b), and (c) “Buy American Act” and adding “Buy American statute” in its place.

25.607 [Amended]

233. Amend section 25.607 by removing from paragraphs (a), (c)(1), and (c)(3) “Buy American Act” and adding “Buy American statute” in its places (four times).

25.700 [Amended]

234. Amend section 25.700 by removing from paragraph (b) “110-174)” and adding “110-174) (50 U.S.C. 1701 note)” in its place.

25.1001 [Amended]

235. Amend section 25.1001 by removing from paragraph (a) introductory text “41 U.S.C. 254d” and adding “41 U.S.C. 4706” in its place.

25.1101 [Amended]

236. Amend section 25.1101 by—

a. Removing from the introductory text of paragraph (a)(1) “Buy American Act” and adding “Buy American” in its place;

b. Removing from paragraphs (a)(1)(ii), (c)(1), and (d) “Buy American Act” and adding “Buy American statute” in their places; and

c. Removing from paragraphs (a)(2), (b)(1)(i) introductory text, and (b)(2)(i) “Buy American Act” and adding “Buy American” in its place.

25.1102 [Amended]

237. Amend section 25.1102 by—

a. Removing from the introductory text of paragraph (a) “Buy American Act” and adding “Buy American” in its place;

b. Removing from paragraph (a)(1) “Buy American Act” and adding “Buy American statute” in its place;

c. Removing from paragraph (b)(1) “Buy American Act” and adding “Buy American” in its place;

d. Removing from paragraph (b)(2) “Buy American Act” and adding “Buy American statute” in its place;

e. Removing from the introductory text of paragraph (c) “Buy American Act” and adding “Buy American” in its place;

f. Removing from paragraphs (c)(1) and (c)(3) “Buy American Act” and adding “Buy American statute” in its place;

g. Removing from paragraph (d)(1) “Buy American Act” and adding “Buy American” in its place; and

h. Removing from paragraphs (d)(2), (e)(3)(i), and the introductory text of paragraph (e)(3)(ii) “Buy American Act” and adding “Buy American statute” in its place.

PART 26—OTHER SOCIOECONOMIC PROGRAMS

26.400 [Amended]

238. Amend section 26.400 by removing “(Pub. L. 110-247)” and adding “(42 U.S.C. 1792)” in its place.

239. Amend section 26.403 by revising the introductory text of paragraph (a) to read as follows:

26.403 Procedures.

(a) In accordance with the Federal Food Donation Act of 2008 an executive agency shall comply with the following:

* * * * *

PART 27—PATENTS, DATA, AND COPYRIGHTS

240. The authority citation for 48 CFR part 27 is added to read as follows:

Authority: 40 U.S.C. 121(c); 10 U.S.C. chapter 137; and 51 U.S.C. 20113.

27.304-4 [Amended]

241. Amend section 27.304-4 by removing from paragraph (c) “Act” and adding “statute” in its place (two times).

27.406-3 [Amended]

242. Amend 27.406-3 by removing from paragraph (a) “418a(d)” and adding “2302(e)” in its place.

PART 28—BONDS AND INSURANCE

243. The authority citation for 48 CFR part 28 continues to read as follows:

Authority: 40 U.S.C. 121(c); 10 U.S.C. chapter 137; and 51 U.S.C. 20113.

244. Amend section 28.102-1 by revising the introductory text of paragraph (a) and paragraph (a)(2) to read as follows.

28.102-1 General.

(a) 40 U.S.C. chapter 31, subchapter III, Bonds (formerly known as the Miller Act), requires performance and payment bonds for any construction contract exceeding $150,000, except that this requirement may be waived—

* * * * *

(2) As otherwise authorized by the Bonds statute or other law.

* * * * *

28.102-2 [Amended]

245. Amend section 28.102-2 by removing from the heading of paragraph (b) “$150,000 (Miller Act)” and adding “$150,000” in its place.

28.106-1 [Amended]

246. Amend section 28.106-1 by removing from paragraphs (h) and (i) “Miller Act” and adding “Bonds Statute” in its place.

28.106-4 [Amended]

247. Amend section 28.106-4 by removing from paragraph (b) “Pub. L. 103-355” and adding “Pub. L. 103-355 (10 U.S.C. 2302 note)” in its place; and removing the words “the Miller Act” and adding “40 U.S.C. chapter 31, subchapter III, Bonds” in its place.

28.106-6 [Amended]

248. Amend section 28.106-6 by removing from the introductory text of paragraph (d) “Pub. L. 103-355” and adding “Pub. L. 103-355 (10 U.S.C. 2302 note)” in its place; and removing “Miller Act” and adding “Bonds statute” in its place.

249. Amend section 28.202 by revising paragraph (a)(4) to read as follows.

28.202 Acceptability of corporate sureties.

(a) * * *

(4) When specified in the solicitation, the contracting officer may accept a bond from the direct writing company in satisfaction of the total bond requirement of the contract. This is permissible until necessary reinsurance agreements are executed, even though the total bond requirement may exceed the insurer's underwriting limitation. The contractor shall execute and submit necessary reinsurance agreements to the contracting officer within the time specified on the bid form, which may not exceed 45 calendar days after the execution of the bond. The contractor shall use Standard Form 273, Reinsurance Agreement for a Bonds Statute Performance Bond, and Standard Form 274, Reinsurance Agreement for a Bonds Statute Payment Bond, when reinsurance is furnished with the required performance or payment bonds. Standard Form 275, Reinsurance Agreement in Favor of the United States, is used when reinsurance is furnished with bonds for other purposes.

* * * * *

28.203-5 [Amended]

250. Amend section 28.203-5 by removing from the headings of paragraphs (a)(1) and (a)(3) “Miller Act” and adding “Bonds statute” in its place.

28.204-3 [Amended]

251. Amend section 28.204-3 by removing from the introductory text of paragraphs (f)(2)(i) and (f)(2)(ii), “Miller Act” and adding “Bonds statute” in its place.

PART 30—COST ACCOUNTING STANDARDS ADMINISTRATION

252. The authority citation for 48 CFR part 30 is revised to read as follows:

Authority: 40 U.S.C. 121(c); 10 U.S.C. chapter 137; and 51 U.S.C. 20113.

30.101 [Amended]

253. Amend section 30.101 by—

a. Removing from paragraph (a) “Public Law 100-679 (41 U.S.C. 422)” and adding “41 U.S.C. chapter 15, Cost Accounting Standards,” in its place; and

b. Removing from paragraph (b) “Public Law 100-679” and adding “41 U.S.C. chapter 15” in its place.

254. The authority citation for 48 CFR parts 31, 32, and 33 continues to read as follows:

Authority: 40 U.S.C. 121(c); 10 U.S.C. chapter 137; and 51 U.S.C. 20113.

PART 31—CONTRACT COST PRINCIPLES AND PROCEDURES

31.205-1 [Amended]

255. Amend section 31.205-1 by removing from paragraph (f)(8) “Pub L. 110-247) (see FAR subpart 26.4)” and adding “42 U.S.C. 1792, see subpart 26.4)” in its place.

256. Amend section 31.205-6 by revising paragraph (g)(6) to read as follows:

31.205-6 Compensation for personal services.

* * * * *

(g) * * *

(6) Under 10 U.S.C. 2324(e)(1)(M) and 41 U.S.C. 4304(a)(13), the costs of severance payments to foreign nationals employed under a service contract performed outside the United States are unallowable to the extent that such payments exceed amounts typically paid to employees providing similar services in the same industry in the United States. Further, under 10 U.S.C. 2324(e)(1)(N) and 41 U.S.C. 4304(a)(14), all such costs of severance payments that are otherwise allowable are unallowable if the termination of employment of the foreign national is the result of the closing of, or the curtailment of activities at, a United States facility in that country at the request of the government of that country; this does not apply if the closing of a facility or curtailment of activities is made pursuant to a status-of-forces or other country-to-country agreement entered into with the government of that country before November 29, 1989. 10 U.S.C. 2324(e)(3) and 41 U.S.C. 4304(b) permit the head of the agency to waive these cost allowability limitations under certain circumstances (see 37.113 and the solicitation provision at 52.237-8).

* * * * *

31.205-47 [Amended]

257. Amend section 31.205-47 by-

a. Removing from paragraph (a) introductory text “subpart” and adding “subsection” in its place; and

b. In the introductory text of the definition of “Fraud”, removing “Fraud, as used in this subsection”, and adding “Fraud” in its place;

c. In paragraph (3) of the definition of “Fraud”, removing “the Anti-Kickback Act, 41 U.S.C., sections 51 and 54” and adding “41 U.S.C. chapter 87, Kickbacks” in its place.

31.603 [Amended]

258. Amend section 31.603 by—

a. Removing from the introductory text of paragraph (b) “41 U.S.C. 256(e)” and adding “41 U.S.C. 4304(a)” in its place; and

b. Removing from paragraph (b)(15) “41 U.S.C. 256(k)” and adding “41 U.S.C. 4310” in its place.

31.703 [Amended]

259. Amend section 31.703 by removing from paragraph (b) “41 U.S.C. 256(e)” and adding “41 U.S.C. 4304” in its place.

PART 32—CONTRACT FINANCING

260. Amend section 32.006-1 by revising paragraph (a) and the first sentence of paragraph (b) to read as follows:

32.006-1 General.

(a) Under 10 U.S.C. 2307(i)(8), the statutory authority implemented by this section is available to the Department of Defense and the National Aeronautics and Space Administration; this statutory authority is not available to the United States Coast Guard. Under 41 U.S.C. 4506, this statutory authority is available to all agencies subject to Division C of subtitle I of title 41.

(b) 10 U.S.C. 2307(i)(2) and 41 U.S.C. 4506 provide for a reduction or suspension of further payments to a contractor when the agency head determines there is substantial evidence that the contractor's request for advance, partial, or progress payments is based on fraud. * * *

* * * * *

32.006-2 [Amended]

261. Amend section 32.006-2 by removing from the definition “Remedy coordination official” the citation “41 U.S.C. 255(g)(9)” and adding “41 U.S.C. 4506(a)” in its place.

32.006-5 [Amended]

262. Amend section 32.006-5 by removing from paragraph (a) and from the introductory text of paragraph (b) “41 U.S.C. 255” and “10 U.S.C. 2307” and adding “41 U.S.C. 4506(h)” and “10 U.S.C. 2307(i)(7)” in their places, respectively;

263. Revise section 32.101 to read as follows:

32.101 Authority.

The basic authority for the contract financing described in this part is contained in 41 U.S.C. chapter 45, Contract Financing, 10 U.S.C. 2307, and Title III of the Defense Production Act of 1950 (50 U.S.C. App. 2091).

32.102 [Amended]

264. Amend section 32.102 by removing from paragraph (d) “41 U.S.C. 255” and adding “41 U.S.C. chapter 45” in its place.

32.112-1 [Amended]

265. Amend section 32.112-1 by removing from the introductory text of paragraph (a) “Pub. L. 103-355” and adding “Pub. L. 103-355 (10 U.S.C. 2302 note)” in its place.

32.112-2 [Amended]

266. Amend section 32.112-2 by removing from the introductory text of paragraph (a) “Pub. L. 103-355” and adding “Pub. L. 103-355 (10 U.S.C. 2302 note)” in its place.

32.201 [Amended]

267. Amend section 32.201 by removing “41 U.S.C. 255(f)” and adding “41 U.S.C. 4505” in its place.

32.202-4 [Amended]

268. Amend section 32.202-4 by removing from the introductory text of paragraph (a)(1) “41 U.S.C. 255(f)” and adding “41 U.S.C. 4505” in its place.

269. Amend section 32.401 by revising paragraphs (a) and (b) to read as follows:

32.401 Statutory authority.

* * * * *

(a) 41 U.S.C. chapter 45;

(b) 10 U.S.C. 2307; or

* * * * *

32.410 [Amended]

270. Amend section 32.410(b) by removing from paragraph (c) of the example “Findings, Determination, and Authority for Advance Payments” “(section 305 of the Federal Property and Administrative Services Act of 1949 (41 U.S.C. 255)) (the Armed Services Procurement Act (10 U.S.C. 2307))” and adding “(41 U.S.C. chapter 45, Contract Financing) (10 U.S.C. 2307)” in its place.

32.501-1 [Amended]

271. Amend section 32.501-1 by removing from paragraph (d) “41 U.S.C. 255” and adding “41 U.S.C. 4504(b)” in its place.

32.604 [Amended]

272. Amend section 32.604 by removing from paragraph (b)(4)(ii) “Section 611 of the Contract Disputes Act of 1978 (Public Law 95-563)” and adding “41 U.S.C. 7109” in its place.

32.606 [Amended]

273. Amend section 32.606, by removing from paragraph (a) “41 U.S.C. 15” and adding “41 U.S.C. 6305” in its place.

32.703-3 [Amended]

274. Amend section 32.703-3, by removing from paragraph (a), “41 U.S.C. 11a” and adding “41 U.S.C. 6302” in its place; and removing from paragraph (b) “41 U.S.C. 253l” and adding “41 U.S.C. 3902” in its place.

32.800 [Amended]

275. Amend section 32.800 by removing “31 U.S.C. 3727” and adding “(31 U.S.C. 3727, 41 U.S.C. 6305)” in its place.

32.805 [Amended]

276. Amend section 32.805(c), under the heading “Notice of Assignment”, by removing from the third paragraph, “31 U.S.C. 3727, 41 U.S.C. 15” and adding “(31 U.S.C. 3727, 41 U.S.C. 6305)” in its place.

PART 33—PROTESTS, DISPUTES, AND APPEALS

33.102 [Amended]

277. Amend section 33.102 by removing from paragraph (f) “41 U.S.C. 423(g)” and adding “41 U.S.C. 2106” in its place.

33.201 [Amended]

278. Amend section 33.201 by removing from the definition “Defective certification” the words “a person duly” and adding “a person” in its place.

279. Revise the section heading and the introductory text of section 33.202 to read as follows.

33.202 Disputes.

41 U.S.C. chapter 71, Disputes, establishes procedures and requirements for asserting and resolving claims subject to the Disputes statute. In addition, the Disputes statute provides for—

* * * * *

280. Amend section 33.203 by—

a. Revising paragraph (b)(1);

b. Removing from paragraphs (b)(2) “Act” and adding “Disputes statute” in its place; and

c. Revising paragraph (c).

The revised text reads as follows:

33.203 Applicability.

* * * * *

(b) * * *

(1) A foreign government or agency of that government; or

* * * * *

(c) This part applies to all disputes with respect to contracting officer decisions on matters “arising under” or “relating to” a contract. Agency Boards of Contract Appeals (BCAs) authorized under the Disputes statute continue to have all of the authority they possessed before the Disputes statute with respect to disputes arising under a contract, as well as authority to decide disputes relating to a contract. The clause at 52.233-1, Disputes, recognizes the “all disputes” authority established by the Disputes statute and states certain requirements and limitations of the Disputes statute for the guidance of contractors and contracting agencies. The clause is not intended to affect the rights and obligations of the parties as provided by the Disputes statute or to constrain the authority of the statutory agency BCAs in the handling and deciding of contractor appeals under the Disputes statute.

281. Amend section 33.205 by—

a. Revising the section heading;

b. Removing from paragraph (a) “Contract Disputes Act of 1978” and adding “Disputes statute” in its place (two times);

c. Removing from paragraph (b) “under the Act” and adding “under the Dispute statute” in its place; and

d. Removing from paragraph (c) “Contract Disputes Act of 1978” and adding “Disputes statute” in its place; and removing “Subpart” and adding “subpart” in its place (two times).

The revised text reads as follows:

33.205 Relationship of the Disputes statute to Pub. L. 85-804.

* * * * *

33.207 [Amended]

282. Amend section 33.207 by removing from paragraph (e) “duly”.

33.208 [Amended]

283. Amend section 33.208 by removing from paragraph (b) “the Act” and adding “the Disputes statute” in its place.

33.210 [Amended]

284. Amend section 33.210 by removing from the introductory text “the Act” and adding “the Disputes statute” in its place.

33.211 [Amended]

285. Amend section 33.211 by removing from paragraph (2) of the text in quotation marks following paragraph (a)(4)(v) “the Contract Disputes Act of 1978, 41 U.S.C. 603” and adding “41 U.S.C. 7102(d)” in its place.

33.213 [Amended]

286. Amend section 33.213 by removing from paragraph (a) “the Act” and adding “the Disputes statute” in its place (two times); and removing “41 U.S.C. 605(b)” and adding “41 U.S.C. 7103(g)” in its place.

PART 36—CONSTRUCTION AND ARCHITECT—ENGINEER

287. The authority citation for 48 CFR part 36 is revised to read as follows:

Authority: 40 U.S.C. 121(c); 10 U.S.C. chapter 137; and 51 U.S.C. 20113.

36.104 [Amended]

288. Amend section 36.104 by removing from paragraph (a) “the Brooks Architect-Engineers Act (40 U.S.C. 1101 et seq.)” and “41 U.S.C. 253m” and adding “40 U.S.C. chapter 11, Selection of Architects and Engineers,” and “41 U.S.C. 3309” in their places.

36.300 [Amended]

289. Amend section 36.300 by removing “41 U.S.C. 253m” and adding “41 U.S.C. 3309” in its place.

PART 37—SERVICE CONTRACTING

290. The authority citation for 48 CFR part 37 continues to read as follows:

Authority: 40 U.S.C. 121(c); 10 U.S.C. chapter 137; and 51 U.S.C. 20113.

291. Amend section 37.000 by revising the last sentence to read as follows:

37.000 Scope of part.

* * * This part includes, but is not limited to, contracts for services to which 41 U.S.C. chapter 67, Service Contract Labor Standards, applies (see subpart 22.10).

37.106 [Amended]

292. Amend section 37.106 by removing from paragraph (b) “41 U.S.C. 253l” and adding “41 U.S.C. 3902” in its place.

293. Revise section 37.107 to read as follows.

37.107 Service Contract Labor Standards.

41 U.S.C. chapter 67, Service Contract Labor Standards, provides for minimum wages and fringe benefits as well as other conditions of work under certain types of service contracts. Whether or not the Service Contract Labor Standards statute applies to a specific service contract will be determined by the definitions and exceptions given in the Service Contract Labor Standards statute, or implementing regulations.

37.202 [Amended]

294. Amend section 37.202 by removing from paragraph (b) “the Brooks Architect-Engineers Act (40 U.S.C. 1102)” and adding “40 U.S.C. 1102” in its place.

295. Amend section 37.203 by revising paragraph (d)(2) to read as follows.

37.203 Policy.

* * * * *

(d) * * *

(2) The contractor is a Federally-Funded Research and Development Center (FFRDC) as authorized in 41 U.S.C. 1709(c) and the work placed under the FFRDC's contract meets the criteria of 35.017-3; or

* * * * *

296. Revise section 37.301 to read as follows:

37.301 Labor standards.

Contracts for dismantling, demolition, or removal of improvements are subject to either 41 U.S.C. chapter 67, Service Contract Labor Standards, or 40 U.S.C. chapter 31, subchapter IV, Wage Rate Requirements (Construction). If the contract is solely for dismantling, demolition, or removal of improvements, the Service Contract Labor Standards statute applies unless further work which will result in the construction, alteration, or repair of a public building or public work at that location is contemplated. If such further construction work is intended, even though by separate contract, then the Construction Wage Rate Requirements statute applies to the contract for dismantling, demolition, or removal.

37.302 [Amended]

297. Amend section 37.302 by removing from the introductory text “the Miller Act (40 U.S.C. 3131 et seq.)” and adding “40 U.S.C. chapter 31, subchapter III, Bonds,” in its place.

37.401 [Amended]

298. Amend section 37.401 by removing from the introductory text “41 U.S.C. 253” and adding “41 U.S.C. chapter 33, Planning and Solicitation” in its place.

PART 38—FEDERAL SUPPLY SCHEDULE CONTRACTING

299. The authority citation for 48 CFR part 38 is revised to read as follows:

Authority: 40 U.S.C. 121(c); 10 U.S.C. chapter 137; and 51 U.S.C. 20113.

38.101 [Amended]

300. Amend section 38.101 by removing from paragraph (a) “41 U.S.C. 259(b)(3)(A)” and adding “41 U.S.C. 152(3)” in its place.

PART 39—ACQUISITION OF INFORMATION TECHNOLOGY

301. The authority citation for 48 CFR part 39 is revised to read as follows:

Authority: 40 U.S.C. 121(c); 10 U.S.C. chapter 137; and 51 U.S.C. 20113.

39.103 [Amended]

302. Amend section 39.103 by removing from paragraph (a) “Section 5202, Incremental Acquisition of Information Technology, of the Clinger-Cohen Act of 1996 (Public Law 104-106)” and adding “41 U.S.C. 2308” in its place.

PART 41—ACQUISITION OF UTILITY SERVICES

303. The authority citation for 48 CFR part 41 is revised to read as follows:

Authority: 40 U.S.C. 121(c); 10 U.S.C. chapter 137; and 51 U.S.C. 20113.

41.101 [Amended]

304. Amend section 41.101 by removing from the definition “Utility service” the words “Service Contract Act of 1965” and adding “41 U.S.C. chapter 67, Service Contract Labor Standards” in its place.

305. The authority citation for 48 CFR parts 42, 43, and 44 continues to read as follows:

Authority: 40 U.S.C. 121(c); 10 U.S.C. chapter 137; and 51 U.S.C. 20113.

PART 42—CONTRACT ADMINISTRATION AND AUDIT SERVICES

42.703-1 [Amended]

306. Amend section 42.703-1 by—

a. Removing from paragraph (a) “41 U.S.C. 254d(d)” and adding “41 U.S.C. 4706(e)” in its place; and

b. Removing from the introductory text of paragraph (c) “41 U.S.C. 256(a)” and adding “41 U.S.C. 4303(a)” in its place.

42.703-2 [Amended]

307. Amend section 42.703-2 by—

a. Removing from paragraph (a) “41 U.S.C. 256(h)” and adding “41 U.S.C. 4307” in its place; and

b. Removing from paragraph (e) “41 U.S.C. 256(a) through (d)” and adding “41 U.S.C. 4303” in its place.

42.705-1 [Amended]

308. Amend section 42.705-1 by removing from paragraph (b)(4) introductory text “41 U.S.C. 256(f)” and adding “41 U.S.C. 4305” in its place.

42.705-3 [Amended]

309. Amend section 42.705-3 by removing from paragraph (b)(1) “41 U.S.C. 254a” and adding “41 U.S.C. 4708” in its place.

42.709 [Amended]

310. Amend section 42.709 by removing from the introductory text of paragraph (a) “41 U.S.C. 256(a) through (d)” and adding “41 U.S.C. 4303” in its place.

311. Amend section 42.1203 by revising paragraph (a) to read as follows:

42.1203 Processing agreements.

(a) If a contractor wishes the Government to recognize a successor in interest to its contracts or a name change, the contractor must submit a written request to the responsible contracting officer (see 42.1202). If the contractor received its contract under subpart 8.7 under 41 U.S.C. chapter 85, Committee for Purchase from People Who Are Blind or Severely Disabled, use the procedures at 8.716 instead.

* * * * *

42.1204 [Amended]

312. Amend section 42.1204 by removing from the introductory text of paragraph (a) “41 U.S.C. 15” and adding “41 U.S.C. 6305” in its place.

42.1601 [Amended]

313. Amend section 42.1601 by removing “the Contract Disputes Act of 1978 (41 U.S.C. 601-613)” and adding “41 U.S.C. chapter 71, Contract Disputes” in its place.

PART 43—CONTRACT MODIFICATIONS

43.102 [Amended]

314. Amend section 43.102 by removing paragraph (c).

PART 44—SUBCONTRACTING POLICIES AND PROCEDURES

44.201-2 [Amended]

315. Amend section 44.201-2 by removing from paragraph (b) “41 U.S.C. 254(b)” and adding “41 U.S.C. 3905” in its place.

44.202-2 [Amended]

316. Amend section 44.202-2 by removing from paragraph (a)(4)(ii) “Javits-Wagner-O'Day Act (41 U.S.C. 48)” and adding “41 U.S.C. 8504” in its place.

44.400 [Amended]

317. Amend section 44.400 by removing “with section 8002(b)(2) of Public Law 103-355” and adding “with 41 U.S.C. 3307” in its place.

44.402 [Amended]

318. Amend section 44.402 by removing from paragraph (b) “and Commercial Components”.

PART 46—QUALITY ASSURANCE

319. The authority citation for 48 CFR part 46 is revised to read as follows:

Authority: 40 U.S.C. 121(c); 10 U.S.C. chapter 137; and 51 U.S.C. 20113.

46.102 [Amended]

320. Amend section 46.102 by removing from paragraph (f) “Section 8002 of Public Law 103-355” and adding “41 U.S.C. 3307” in its place.

PART 47—TRANSPORTATION

321. The authority citation for 48 CFR part 47 is revised to read as follows:

Authority: 40 U.S.C. 121(c); 10 U.S.C. chapter 137; and 51 U.S.C. 20113.

322. Amend section 47.202 by revising paragraph (a) to read as follows:

47.202 Presolicitation planning.

* * * * *

(a) The Service Contract Labor Standards statute requirement to obtain a wage determination by accessing the Wage Determination OnLine Web site (http://www.wdol.gov) using the WDOL process or by submitting a request directly to the Department of Labor on this Web site using the e98 process before the issuance of an invitation for bid, request for proposal, or commencement of negotiations for any contract exceeding $2,500 that may be subject to the Service Contract Labor Standards statute (see subpart 22.10);

* * * * *

PART 48—VALUE ENGINEERING

323. The authority citation for 48 CFR part 48 is revised to read as follows:

Authority: 40 U.S.C. 121(c); 10 U.S.C. chapter 137; and 51 U.S.C. 20113.

48.102 [Amended]

324. Amend section 48.102 by—

a. Removing from paragraph (a) “Section 36 of the Office of Federal Procurement Policy Act (41 U.S.C. 401, et seq.)” and adding “41 U.S.C. 1711” in its place; and

b. Removing from paragraph (e) “41 U.S.C. 254(b)” and adding “41 U.S.C. 3905” in its place.

PART 50—EXTRAORDINARY CONTRACTUAL ACTIONS AND THE SAFETY ACT

325. The authority citation for 48 CFR part 50 is revised to read as follows:

Authority: 40 U.S.C. 121(c); 10 U.S.C. chapter 137; and 51 U.S.C. 20113.

50.101-2 [Amended]

326. Amend section 50.101-2 by removing from paragraph (c) “the Contract Disputes Act of 1978” and adding “41 U.S.C. chapter 71, Contract Disputes” in its place; removing “Part” and adding “part” in its place (two times); and removing “Subpart” and adding “subpart” in its place.

50.102-3 [Amended]

327. Amend section 50.102-3 by removing from paragraph (c) “10 U.S.C. 2304(a)(15) or 41 U.S.C. 252(c)(14), or FAR”.

328. Amend section 50.103-7 by revising paragraph (b) to read as follows:

50.103-7 Contract requirements.

* * * * *

(b) The authority in 50.101-1(a) shall not be used to omit from contracts, when otherwise required, the clauses at 52.203-5, Covenant Against Contingent Fees; 52.215-2, Audit and Records—Negotiation; 52.222-4, Contract Work Hours and Safety Standards—Overtime Compensation; 52.222-6, Construction Wage Rate Requirements; 52.222-10, Compliance With Copeland Act Requirements; 52.222-20, Contracts for Materials, Supplies, Articles, and Equipment Exceeding $15,000; 52.222-26, Equal Opportunity; and 52.232-23, Assignment of Claims.

PART 51—USE OF GOVERNMENT SOURCES BY CONTRACTORS

329. The authority citation for 48 CFR part 51 is revised to read as follows:

Authority: 40 U.S.C. 121(c); 10 U.S.C. chapter 137; and 51 U.S.C. 20113.

330. Amend section 51.101 by—

a. Revising the introductory text of paragraph (a)(3); and

b. Removing from paragraph (a)(3)(i) “Government,” and adding “Government;” in its place.

The revised text reads as follows:

51.101 Policy.

(a) * * *

(3) A contract under 41 U.S.C. chapter 85, Committee for Purchase from People Who Are Blind or Severely Disabled, if—

* * * * *

331. The authority citation for 48 CFR parts 52 and 53 continues to read as follows:

Authority: 40 U.S.C. 121(c); 10 U.S.C. chapter 137; and 51 U.S.C. 20113.

PART 52—SOLICITATION PROVISIONS AND CONTRACT CLAUSES

332. Amend section 52.203-5 by—

a. Revising the date of the clause; and

b. Removing from paragraph (a) “liability or, in its discretion,” and adding “liability or” in its place.

The revised text reads as follows:

52.203-5 Covenant Against Contingent Fees.

* * * * *

Covenant Against Contingent Fees (MAY 2014)

* * * * *

333. Amend section 52.203-7 by—

a. Revising the date of the clause; and

b. Removing from paragraph (a), in the definition “Kickback” the words “, directly or indirectly,”.

c. Revising the introductory text of paragraph (b); and

d. Removing from paragraph (c)(2) “Department of Justice” and adding “Attorney General” in its place.

The revised text reads as follows:

52.203-7 Anti-Kickback Procedures.

* * * * *

Anti-Kickback Procedures (MAY 2014)

* * * * *

(b) 41 U.S.C. chapter 87, Kickbacks, prohibits any person from—

* * * * *

334. Amend section 52.203-8 by—

a. Revising the date of the clause; and

b. Revising the introductory text of paragraph (a), and the introductory text of paragraph (a)(2)(i), and revising paragraph (a)(2)(ii) to read as follows:

52.203-8 Cancellation, Rescission, and Recovery of Funds for Illegal or Improper Activity.

* * * * *

Cancellation, Rescission, and Recovery of Funds for Illegal Or Improper Activity (MAY 2014)

(a) If the Government receives information that a contractor or a person has violated 41 U.S.C. 2102-2104, Restrictions on Obtaining and Disclosing Certain Information, the Government may—

* * * * *

(2) * * *

(i) The Contractor or someone acting for the Contractor has been convicted for an offense where the conduct violates 41 U.S.C. 2102 for the purpose of either—

* * * * *

(ii) The head of the contracting activity has determined, based upon a preponderance of the evidence, that the Contractor or someone acting for the Contractor has engaged in conduct punishable under 41 U.S.C. 2105(a).

* * * * *

335. Amend section 52.203-10 by—

a. Revising the date of the clause;

b. Revising paragraph (a); and

c. Removing from paragraph (c) “Act” and adding “statute” in its place.

The revised text reads as follows:

52.203-10 Price or Fee Adjustment for Illegal or Improper Activity.

* * * * *

Price or Fee Adjustment for Illegal or Improper Activity (MAY 2014)

(a) The Government, at its election, may reduce the price of a fixed-price type contract and the total cost and fee under a cost-type contract by the amount of profit or fee determined as set forth in paragraph (b) of this clause if the head of the contracting activity or designee determines that there was a violation of 41 U.S.C. 2102 or 2103, as implemented in section 3.104 of the Federal Acquisition Regulation.

* * * * *

336. Amend section 52.204-8 by—

a. Revising the date of the provision; and

b. Revising paragraph (c)(1)(xvi), the introductory text of paragraph (c)(1)(xvii), and paragraphs (c)(2)(iii) and (c)(2)(iv).

The revised text reads as follows:

52.204-8 Annual Representations and Certifications.

* * * * *

Annual Representations and Certifications (MAY 2014)

* * * * *

(c)(1) * * *

(xvi) 52.225-2, Buy American Certificate. This provision applies to solicitations containing the clause at 52.225-1.

(xvii) 52.225-4, Buy American—Free Trade Agreements—Israeli Trade Act Certificate. (Basic, Alternates I, II, and III.) This provision applies to solicitations containing the clause at 52.225-3.

* * * * *

(2) * * *

_ (iii) 52.222-48, Exemption from Application of the Service Contract Labor Standards to Contracts for Maintenance, Calibration, or Repair of Certain Equipment—Certification.

_ (iv) 52.222-52, Exemption from Application of the Service Contract Labor Standards to Contracts for Certain Services—Certification.

* * * * *

337. Amend section 52.208-9 by—

a. Revising the date of the clause;

b. Removing from paragraph (a) “the Javits-Wagner-O'Day Act (41 U.S.C. 48)” and adding “41 U.S.C. 8504” in its place.

The revised text reads as follows:

52.208-9 Contractor Use of Mandatory Sources of Supply or Services.

* * * * *

Contractor Use of Mandatory Sources of Supply or Services (MAY 2014)

* * * * *

338. Amend section 52.212-3 by—

a. Revising the date of the provision;

b. Removing from the heading and introductory text of paragraph (f) the word “Act” (two times);

c. Removing from paragraph (f)(1) “Act”;

d. Removing from paragraph (g)(1) heading and introductory text “American Act” and “American Act” and adding “American” and “American” in their places;

e. Removing from paragraphs (g)(1)(i), (g)(1)(ii), and (g)(1)(iii) “American Act” adding “American” in their places respectively (three times);

f. Removing from paragraphs (g)(2), (g)(3), and (g)(4) “American Act” and “American Act”, and adding “American” and “American” in their places wherever they appear;

g. Removing from paragraph (g)(5)(iii) “American Act” and adding “American statute” in its place;

h. Removing from the heading of paragraph (k) “Contract Act” and adding “Contract Labor Standards” in its place; and

i. Removing from paragraph (k)(3)(i) “Contract Act” and adding “Contract Labor Standards” in its place.

j. Amending Alternate I by—

i. Revising the date of Alternate I;

ii. Removing from paragraph (12), fourth subparagraph “U.S. Trust Territory of the Pacific Islands (Republic of Palau)” and adding “Republic of Palau” in its place.

The revised text reads as follows:

52.212-3 Offeror Representations and Certifications—Commercial Items.

* * * * *

Offeror Representations and Certifications—Commercial Items (MAY 2014)

* * * * *

Alternate I (MAY 2014). * * *

* * * * *

339. Amend section 52.212-4 by—

a. Revising the date of the clause;

b. Removing from paragraph (d) “the Contract Disputes Act of 1978, as amended (41 U.S.C. 601-613)” and adding “41 U.S.C. chapter 71, Contract Disputes” in its place;

c. Removing from paragraph (i)(6)(i) “Section 611 of the Contract Disputes Act of 1978 (Public Law 95-563)” and adding “41 U.S.C. 7109” in its place;

d. Revising paragraph (r); and

e. Amending Alternate I by—

i. Revising the date of Alternate I; and

ii. Removing from paragraph (i)(6)(i) “section 611 of the Contract Disputes Act of 1978 (Public Law 95-563)” and adding “41 U.S.C. 7109” in its place.

The revised text reads as follows:

52.212-4 Contract Terms and Conditions—Commercial Items.

* * * * *

Contract Terms and Conditions—Commercial Items (MAY 2014)

* * * * *

(r) Compliance with laws unique to Government contracts. The Contractor agrees to comply with 31 U.S.C. 1352 relating to limitations on the use of appropriated funds to influence certain Federal contracts; 18 U.S.C. 431 relating to officials not to benefit; 40 U.S.C. chapter 37, Contract Work Hours and Safety Standards; 41 U.S.C. chapter 87, Kickbacks; 41 U.S.C. 4712 and 10 U.S.C. 2409 relating to whistleblower protections; 49 U.S.C. 40118, Fly American; and 41 U.S.C. chapter 21 relating to procurement integrity.

* * * * *

Alternate I (MAY 2014). * * *

* * * * *

340. Amend section 52.212-5 by—

a. Revising the date of the clause;

b. Removing from paragraph (a)(3) “(Pub. L. 108-77, 108-78).” and adding “(Public Laws 108-77 and 108-78 (19 U.S.C. 3805 note)).” in its place;

c. Removing from paragraph (b)(1) “(41 U.S.C. 253g” and adding “(41 U.S.C. 4704” in its place;

d. Removing from paragraph (b)(2) “(Pub. L. 110-252, Title VI, Chapter 1 (41 U.S.C. 251 note)).” and adding “(41 U.S.C. 3509).” in its place;

e. Revising paragraphs (b)(16), (b)(41) and (b)(42);

f. Removing from paragraphs (b)(48) and (b)(49) “(41 U.S.C. 255(f)” and adding “(41 U.S.C. 4505” in their places;

g. Revising paragraph (b)(52);

h. Revising paragraphs (c)(1) through (c)(8);

i. Removing from paragraph (e)(1)(i) “(Pub. L. 110-252, Title VI, Chapter 1 (41 U.S.C. 251 note))” and adding “(41 U.S.C. 3509)” in its place;

j. Revising paragraphs (e)(1)(ii), (e)(1)(iii), (e)(1)(viii), (e)(1)(x), (e)(1)(xi), and (e)(1)(xiv);

k. Amending Alternate II by—

i. Revising the date of the Alternate;

ii. Removing from paragraph (e)(1)(ii)(A) “(Pub. L. 110-252, Title VI, Chapter 1 (41 U.S.C. 251 note)” and adding “(41 U.S.C. 3509)” in its place;

iii. Revising paragraphs (e)(1)(ii)(C), (e)(1)(ii)(H), (e)(1)(ii)(J), (e)(1)(ii)(K) and (e)(1)(ii)(M).

The revised text reads as follows:

52.212-5 Contract Terms and Conditions Required To Implement Statutes or Executive Orders—Commercial Items.

* * * * *

Contract Terms and Conditions Required To Implement Statutes or Executive Orders—Commercial Items (MAY 2014)

* * * * *

(b) * * *

_ (16) 52.219-8, Utilization of Small Business Concerns (MAY 2014) (15 U.S.C. 637(d)(2) and (3).

* * * * *

_ (41) 52.225-1, Buy American—Supplies (MAY 2014) (41 U.S.C. chapter 83).

_ (42)(i) 52.225-3, Buy American—Free Trade Agreements—Israeli Trade Act (MAY 2014) (41 U.S.C. chapter 83, 19 U.S.C. 3301 note, 19 U.S.C. 2112 note, 19 U.S.C. 3805 note, 19 U.S.C. 4001 note, Pub. L. 103-182, 108-77, 108-78, 108-286, 108-302, 109-53, 109-169, 109-283, 110-138, 112-41, 112-42, and 112-43.

_ (ii) Alternate I (MAY 2014) of 52.225-3.

_ (iii) Alternate II (MAY 2014) of 52.225-3.

_ (iv) Alternate III (MAY 2014) of 52.225-3.

* * * * *

_ (52) 52.232-36, Payment by Third Party (MAY 2014) (31 U.S.C. 3332).

* * * * *

(c) * * *

_ (1) 52.222-41, Service Contract Labor Standards (MAY 2014) (41 U.S.C. chapter 67).

_ (2) 52.222-42, Statement of Equivalent Rates for Federal Hires (MAY 2014) (29 U.S.C. 206 and 41 U.S.C. chapter 67).

_ (3) 52.222-43, Fair Labor Standards Act and Service Contract Labor Standards—Price Adjustment (Multiple Year and Option Contracts) (MAY 2014) (29 U.S.C. 206 and 41 U.S.C. chapter 67).

_ (4) 52.222-44, Fair Labor Standards Act and Service Contract Labor Standards—Price Adjustment (MAY 2014) (29 U.S.C 206 and 41 U.S.C. chapter 67).

_ (5) 52.222-51, Exemption from Application of the Service Contract Labor Standards to Contracts for Maintenance, Calibration, or Repair of Certain Equipment—Requirements (MAY 2014) (41 U.S.C. chapter 67).

_ (6) 52.222-53, Exemption from Application of the Service Contract Labor Standards to Contracts for Certain Services—Requirements (MAY 2014) (41 U.S.C. chapter 67).

_ (7) 52.222-17, Nondisplacement of Qualified Workers (MAY 2014) (E.O. 13495).

_ (8) 52.226-6, Promoting Excess Food Donation to Nonprofit Organizations (MAY 2014) (42 U.S.C. 1792).

* * * * *

(e)(1) * * *

(ii) 52.219-8, Utilization of Small Business Concerns (MAY 2014) (15 U.S.C. 637(d)(2) and (3)), in all subcontracts that offer further subcontracting opportunities. If the subcontract (except subcontracts to small business concerns) exceeds $650,000 ($1.5 million for construction of any public facility), the subcontractor must include 52.219-8 in lower tier subcontracts that offer subcontracting opportunities.

(iii) 52.222-17, Nondisplacement of Qualified Workers (MAY 2014) (E.O. 13495). Flow down required in accordance with paragraph (l) of FAR clause 52.222-17.

* * * * *

(viii) 52.222-41, Service Contract Labor Standards (MAY 2014) (41 U.S.C. chapter 67).

* * * * *

(x) 52.222-51, Exemption from Application of the Service Contract Labor Standards to Contracts for Maintenance, Calibration, or Repair of Certain Equipment—Requirements (MAY 2014) (41 U.S.C. chapter 67).

(xi) 52.222-53, Exemption from Application of the Service Contract Labor Standards to Contracts for Certain Services—Requirements (MAY 2014) (41 U.S.C. chapter 67).

* * * * *

(xiv) 52.226-6, Promoting Excess Food Donation to Nonprofit Organizations (MAY 2014) (42 U.S.C. 1792). Flow down required in accordance with paragraph (e) of FAR clause 52.226-6.

* * * * *

Alternate II (MAY 2014). * * *

* * * * *

(e)(1)(ii) * * *

(C) 52.219-8, Utilization of Small Business Concerns (MAY 2014) (15 U.S.C. 637(d)(2) and (3)), in all subcontracts that offer further subcontracting opportunities. If the subcontract (except subcontracts to small business concerns) exceeds $650,000 ($1.5 million for construction of any public facility), the subcontractor must include 52.219-8 in lower tier subcontracts that offer subcontracting opportunities.

* * * * *

(H) 52.222-41, Service Contract Labor Standards (MAY 2014) (41 U.S.C. chapter 67).

* * * * *

(J) 52.222-51, Exemption from Application of the Service Contract Labor Standards to Contracts for Maintenance, Calibration, or Repair of Certain Equipment—Requirements (MAY 2014) (41 U.S.C. chapter 67).

(K) 52.222-53, Exemption from Application of the Service Contract Labor Standards to Contracts for Certain Services—Requirements (MAY 2014) (41 U.S.C. chapter 67).

* * * * *

(M) 52.226-6, Promoting Excess Food Donation to Nonprofit Organizations. (MAY 2014) (42 U.S.C. 1792). Flow down required in accordance with paragraph (e) of FAR clause 52.226-6.

* * * * *

341. Amend section 52.213-4 by—

a. Revising the date of the clause;

b. Removing from paragraph (a)(1)(vii) “(Pub. L. 108-77, 108-78)” and adding “(Public Laws 108-77 and 108-78 (19 U.S.C. 3805 note))” in its place;

c. Revising paragraphs (a)(2)(vii) and (a)(2)(viii);

d. Revising paragraphs (b)(1)(iii), (b)(1)(vii) and (b)(1)(x);

e. Redesignating paragraphs (b)(1)(xi) through (b)(1)(xiii) as paragraph (b)(1)(xii) through (b)(1)(xiv) respectively;

f. Adding a new paragraph (b)(1)(xi);

g. Removing paragraph (b)(2)(iii); and

h. Redesignating paragraphs (b)(2)(iv) and (b)(2)(v) as paragraphs (b)(2)(iii) and (b)(2)(iv), respectively.

The revised text reads as follows:

52.213-4 Terms and Conditions—Simplified Acquisitions (Other Than Commercial Items).

* * * * *

Terms and Conditions—Simplified Acquisitions (Other Than Commercial Items) (MAY 2014)

* * * * *

(a) * * *

(2) * * *

(vii) 52.233-1, Disputes (MAY 2014).

(viii) 52.244-6, Subcontracts for Commercial Items (MAY 2014).

* * * * *

(b) * * *

(1) * * *

(iii) 52.222-20, Contracts for Materials, Supplies, Articles, and Equipment Exceeding $15,000 (MAY 2014) (41 U.S.C. chapter 65) (Applies to supply contracts over $15,000 in the United States, Puerto Rico, or the U.S. Virgin Islands).

* * * * *

(vii) 52.222-41, Service Contract Labor Standards (MAY 2014) (41 U.S.C. chapter 67) (Applies to service contracts over $2,500 that are subject to the Service Contract Labor Standards statute and will be performed in the United States, District of Columbia, Puerto Rico, the Northern Mariana Islands, American Samoa, Guam, the U.S. Virgin Islands, Johnston Island, Wake Island, or the outer Continental Shelf.)

* * * * *

(x) 52.225-1, Buy American—Supplies (MAY 2014) (41 U.S.C. chapter 83) (Applies to contracts for supplies, and to contracts for services involving the furnishing of supplies, for use in the United States or its outlying areas, if the value of the supply contract or supply portion of a service contract exceeds the micro-purchase threshold and the acquisition—

(A) Is set aside for small business concerns; or

(B) Cannot be set aside for small business concerns (see 19.502-2), and does not exceed $25,000.)

* * * * *

(xi) 52.226-6, Promoting Excess Food Donation to Nonprofit Organizations (MAY 2014) (42 U.S.C. 1792) (Applies to contracts greater than $25,000 that provide for the provision, the service, or the sale of food in the United States.)

* * * * *

342. Amend section 52.219-1 by revising the date of Alternate I and the checklist item “Asian-Pacific American” in paragraph (b)(9) to read as follows:

52.219-1 Small Business Program Representations.

* * * * *

Alternate I (MAY 2014) * * *

* * * * *

(9) * * *

* * * * *

_ Asian-Pacific American (persons with origins from Burma, Thailand, Malaysia, Indonesia, Singapore, Brunei, Japan, China, Taiwan, Laos, Cambodia (Kampuchea), Vietnam, Korea, The Philippines, Republic of Palau, Republic of the Marshall Islands, Federated States of Micronesia, the Commonwealth of the Northern Mariana Islands, Guam, Samoa, Macao, Hong Kong, Fiji, Tonga, Kiribati, Tuvalu, or Nauru).

* * * * *

343. Amend section 52.219-8 by—

a. Revising the section heading and the date of the clause; and

b. Removing from paragraph (a) “contracts let” and adding “contracts awarded” in its place.

The revised text reads as follows:

52.219-8 Utilization of Small Business Concerns.

* * * * *

Utilization of Small Business Concerns (MAY 2014)

* * * * *

344. Amend section 52.222-4 by—

a. Revising the section and clause headings;

b. Removing from paragraph (b) “Standards Act” and adding “Standards statute (found at 40 U.S.C. chapter 37)” in its place;

c. Removing from paragraph (c) “Standards Act”; and adding “Standards statute” in its place; and

d. Removing from paragraph (d)(1) “Davis-Bacon Act” and adding “Construction Wage Rate Requirements statute” in its place.

The revised text reads as follows:

52.222-4 Contract Work Hours and Safety Standards—Overtime Compensation.

* * * * *

Contract Work Hours and Safety Standards—Overtime Compensation (MAY 2014)

* * * * *

345. Amend section 52.222-5 by—

a. Revising the section and provision headings; and

b. Removing from paragraph (a)(1) “Davis-Bacon Act” and adding “Construction Wage Rate Requirements” in its place.

The revised text reads as follows:

52.222-5 Construction Wage Rate Requirements—Secondary Site of the Work.

* * * * *

Construction Wage Rate Requirements—Secondary Site of the Work (MAY 2014)

* * * * *

346. Amend section 52.222-6 by—

a. Revising the section and clause headings;

b. Removing from paragraph (b)(2) “Davis-Bacon Act” and adding “Construction Wage Rate Requirements statute” in its place;

c. Removing from paragraph (b)(4) “Davis-Bacon” and adding “Construction Wage Rate Requirements (Davis-Bacon Act)” in its place; and

d. Removing from paragraph (e) “Davis-Bacon Act” and adding “Construction Wage Rate Requirements statute” in its place.

The revised text reads as follows:

52.222-6 Construction Wage Rate Requirements.

* * * * *

Construction Wage Rate Requirements (MAY 2014)

* * * * *

347. Amend section 52.222-7 by revising the date of the clause; and removing from the clause “Davis-Bacon”.

The revised text reads as follows:

52.222-7 Withholding of Funds.

* * * * *

Withholding of Funds (MAY 2014)

* * * * *

348. Amend section 52.222-8 by revising the date of the clause and paragraph (a) to read as follows:

52.222-8 Payrolls and Basic Records.

* * * * *

Payrolls and Basic Records (MAY 2014)

(a) Payrolls and basic records relating thereto shall be maintained by the Contractor during the course of the work and preserved for a period of 3 years thereafter for all laborers and mechanics working at the site of the work. Such records shall contain the name, address, and social security number of each such worker, his or her correct classification, hourly rates of wages paid (including rates of contributions or costs anticipated for bona fide fringe benefits or cash equivalents thereof of the types described in 40 U.S.C. 3141(2)(B) (Construction Wage Rate Requirement statute)), daily and weekly number of hours worked, deductions made, and actual wages paid. Whenever the Secretary of Labor has found, under paragraph (d) of the clause entitled Construction Wage Rate Requirements, that the wages of any laborer or mechanic include the amount of any costs reasonably anticipated in providing benefits under a plan or program described in 40 U.S.C. 3141(2)(B), the Contractor shall maintain records which show that the commitment to provide such benefits is enforceable, that the plan or program is financially responsible, and that the plan or program has been communicated in writing to the laborers or mechanics affected, and records which show the costs anticipated or the actual cost incurred in providing such benefits. Contractors employing apprentices or trainees under approved programs shall maintain written evidence of the registration of apprenticeship programs and certification of trainee programs, the registration of the apprentices and trainees, and the ratios and wage rates prescribed in the applicable programs.

* * * * *

349. Amend section 52.222-11 by—

a. Revising the date of the clause;

b. Removing from paragraph (a)(4) “Davis-Bacon Act” and adding “Construction Wage Rate Requirements” in its place, and removing “site of work” and adding “site of the work” in its place;

c. Removing from paragraph (a)(5) “Davis-Bacon Act” and adding “Construction Wage Rate Requirements” in its place; and

d. Revising paragraphs (b)(1), (b)(2), and (b)(10) to read as follows:

52.222-11 Subcontracts (Labor Standards).

* * * * *

Subcontracts (Labor Standards) (MAY 2014)

* * * * *

(b) * * *

(1) Construction Wage Rate Requirements;

(2) Contract Work Hours and Safety Standards—Overtime Compensation (if the clause is included in this contract);

* * * * *

(10) Compliance with Construction Wage Rate Requirements and Related Regulations; and

* * * * *

350. Revising section 52.222-12 to read as follows:

52.222-12 Contract Termination—Debarment.

As prescribed in 22.407(a), insert the following clause:

Contract Termination—Debarment (MAY 2014)

A breach of the contract clauses entitled Construction Wage Rate Requirements, Contract Work Hours and Safety Standards—Overtime Compensation, Apprentices and Trainees, Payrolls and Basic Records, Compliance with Copeland Act Requirements, Subcontracts (Labor Standards), Compliance with Construction Wage Rate Requirements and Related Regulations, or Certification of Eligibility may be grounds for termination of the contract, and for debarment as a Contractor and subcontractor as provided in 29 CFR 5.12.

(End of Clause)

351. Revise section 52.222-13 to read as follows:

52.222-13 Compliance With Construction Wage Rate Requirements and Related Regulations.

As prescribed in 22.407(a), insert the following clause:

Compliance With Construction Wage Rate Requirements and Related Regulations (MAY 2014)

All rulings and interpretations of the Construction Wage Rate Requirements and related statutes contained in 29 CFR parts 1, 3, and 5 are hereby incorporated by reference in this contract.

(End of clause)

352. Amend section 52.222-15 by revising the date of the clause, and paragraphs (a) and (b), to read as follows:

52.222-15 Certification of Eligibility.

* * * * *

Certification of Eligibility (MAY 2014)

(a) By entering into this contract, the Contractor certifies that neither it nor any person or firm who has an interest in the Contractor's firm is a person or firm ineligible to be awarded Government contracts by virtue of 40 U.S.C. 3144(b)(2) or 29 CFR 5.12(a)(1).

(b) No part of this contract shall be subcontracted to any person or firm ineligible for award of a Government contract by virtue of 40 U.S.C. 3144(b)(2) or 29 CFR 5.12(a)(1).

* * * * *

353. Amend section 52.222-16 by—

a. Revising the date of the clause; and

b. Removing from the clause “Davis-Bacon Act” and adding “Construction Wage Rate Requirements” in its place.

The revised text reads as follows:

52.222-16 Approval of Wage Rates.

* * * * *

Approval of Wage Rates (MAY 2014)

* * * * *

354. Amend section 52.222-17 by

a. Revising the date of the clause; and

b. Removing from paragraph (c)(1) “Act” and adding “Labor Standards statute” in its place.

The revised text reads as follows:

52.222-17 Nondisplacement of Qualified Workers.

* * * * *

Nondisplacement of Qualified Workers (MAY 2014)

* * * * *

355. Revise section 52.222-20 to read as follows:

52.222-20 Contracts for Materials, Supplies, Articles, and Equipment Exceeding $15,000.

As prescribed in 22.610, insert the following clause in solicitations and contracts:

Contracts for Materials, Supplies, Articles, and Equipment Exceeding $15,000 (MAY 2014)

If this contract is for the manufacture or furnishing of materials, supplies, articles or equipment in an amount that exceeds or may exceed $15,000, and is subject to 41 U.S.C. chapter 65, the following terms and conditions apply:

(a) All stipulations required by 41 U.S.C. chapter 65 and regulations issued by the Secretary of Labor (41 CFR Chapter 50) are incorporated by reference. These stipulations are subject to all applicable rulings and interpretations of the Secretary of Labor that are now, or may hereafter, be in effect.

(b) All employees whose work relates to this contract shall be paid not less than the minimum wage prescribed by regulations issued by the Secretary of Labor (41 CFR 50-202.2). Learners, student learners, apprentices, and workers with disabilities may be employed at less than the prescribed minimum wage (see 41 CFR 50-202.3) to the same extent that such employment is permitted under section 14 of the Fair Labor Standards Act (41 U.S.C. 6508).

(End of clause)

356. Amend section 52.222-30 by—

a. Revising the section and clause headings; and

b. Removing from paragraphs (a) and (b)(3) the words “Davis-Bacon Act” and adding “Construction Wage Rate Requirements statute” in its place.

The revised text reads as follows:

52.222-30 Construction Wage Rate Requirements—Price Adjustment (None or Separately Specified Method).

* * * * *

Construction Wage Rate Requirements—Price Adjustment (None or Separately Specified Method) (MAY 2014)

* * * * *

357. Amend section 52.222-31 by—

a. Revising the section and clause headings; and

b. Removing from paragraphs (a), (b) introductory text, (b)(1), (b)(2), and (c)(3) the words “Davis-Bacon Act” and adding “Construction Wage Rate Requirements statute” in their places.

The revised text reads as follows:

52.222-31 Construction Wage Rate Requirements—Price Adjustment (Percentage Method).

* * * * *

Construction Wage Rate Requirements—Price Adjustment (Percentage Method) (MAY 2014)

* * * * *

358. Amend section 52.222-32 by—

a. Revising the section and clause headings; and

b. Removing from paragraph (a) the words “Davis-Bacon Act” and adding “Construction Wage Rate Requirements statute” in its place; and

c. Removing from paragraphs (c)(1) and (c)(2) the words “Davis-Bacon Act” and adding “Construction Wage Rate Requirements” in its place.

The revised text reads as follows:

52.222-32 Construction Wage Rate Requirements—Price Adjustment (Actual Method).

* * * * *

Construction Wage Rate Requirements—Price Adjustment (Actual Method) (MAY 2014)

* * * * *

359. Amend section 52.222-41 by—

a. Revising the section and clause headings;

b. Removing from paragraph (a) the definition “Act”;

c. Removing from paragraph (b) “the Act” and “41 U.S.C. 356” and adding “41 U.S.C. chapter 67, Service Contract Labor Standards,” and “41 U.S.C. 6702” in their places, respectively;

d. Removing from paragraphs (c)(2)(v) and (f) “the Act” and adding “the Service Contract Labor Standards statute” in their places;

e. Removing from paragraph (g) “section 2(a)(4) of the Act” and adding “41 U.S.C. 6703” in its place;

f. Removing from paragraphs (i)(1) introductory text and (i)(1)(i) “the Act” and adding “the Service Contract Labor Standards statute” in its place;

g. Removing from paragraph (j) “the Act” and “this Act” and adding “the Service Contract Labor Standards statute” and “this statute” in their places, respectively;

h. Removing from paragraphs (k), (l), and (o) “the Act” and adding “the Service Contract Labor Standards statute” in their places; (four times)

i. Revising paragraph (p)(1);

j. Removing from paragraph (p)(2) “section 5 of the Act” and adding “41 U.S.C. 6706” in its place;

k. Removing from the introductory text of paragraph (q) “section 4(b) of the Act” and adding “41 U.S.C. 6707” in its place;

l. Revising paragraphs (q)(1) and (q)(2);

m. Removing from the introductory text of paragraph (s) “section 2(a)(1) or section 2(b)(1) of the Act” and adding “41 U.S.C. 6703(1)” in its place;

n. Removing from paragraph (s)(3) “Contract Act” and adding “Contract Labor Standards” in its place; and

o. Removing from paragraph (s)(4) “section 4(c) of the Act” and adding “41 U.S.C. 6707(c)” in its place.

The revised text reads as follows:

52.222-41 Service Contract Labor Standards.

* * * * *

Service Contract Labor Standards (MAY 2014)

* * * * *

(p) * * *

(1) By entering into this contract, the Contractor (and officials thereof) certifies that neither it nor any person or firm who has a substantial interest in the Contractor's firm is a person or firm ineligible to be awarded Government contracts by virtue of the sanctions imposed under 41 U.S.C. 6706.

* * * * *

(q) * * *

(1) Apprentices, student-learners, and workers whose earning capacity is impaired by age, physical or mental deficiency, or injury may be employed at wages lower than the minimum wages otherwise required by 41 U.S.C. 6703(1) without diminishing any fringe benefits or cash payments in lieu thereof required under 41 U.S.C. 6703(2), in accordance with the conditions and procedures prescribed for the employment of apprentices, student-learners, persons with disabilities, and disabled clients of work centers under section 14 of the Fair Labor Standards Act of 1938, in the regulations issued by the Administrator (29 CFR parts 520, 521, 524, and 525).

(2) The Administrator will issue certificates under the statute for the employment of apprentices, student-learners, persons with disabilities, or disabled clients of work centers not subject to the Fair Labor Standards Act of 1938, or subject to different minimum rates of pay under the two statutes, authorizing appropriate rates of minimum wages (but without changing requirements concerning fringe benefits or supplementary cash payments in lieu thereof), applying procedures prescribed by the applicable regulations issued under the Fair Labor Standards Act of 1938 (29 CFR parts 520, 521, 524, and 525).

* * * * *

360. Amend section 52.222-42 by revising the date of the clause and the introductory text of the clause to read as follows:

52.222-42 Statement of Equivalent Rates for Federal Hires.

* * * * *

Statement of Equivalent Rates for Federal Hires (MAY 2014)

In compliance with the Service Contract Labor Standards statute and the regulations of the Secretary of Labor (29 CFR part 4), this clause identifies the classes of service employees expected to be employed under the contract and states the wages and fringe benefits payable to each if they were employed by the contracting agency subject to the provisions of 5 U.S.C. 5341 or 5332.

* * * * *

361. Amend section 52.222-43 by—

a. Revising the section and clause headings; and

b. Removing from paragraph (c) “Act of 1965, as amended, (41 U.S.C. 351, et seq.)” and adding “Labor Standards statute, (41 U.S.C. chapter 67)” in its place.

The revised text reads as follows:

52.222-43 Fair Labor Standards Act and Service Contract Labor Standards—Price Adjustment (Multiple Year and Option Contracts).

* * * * *

Fair Labor Standards Act and Service Contract Labor Standards—Price Adjustment (Multiple Year and Option Contracts) (MAY 2014)

* * * * *

362. Amend section 52.222-44 by revising the section and clause headings to read as follows:

52.222-44 Fair Labor Standards Act and Service Contract Labor Standards—Price Adjustment.

* * * * *

Fair Labor Standards Act And Service Contract Labor Standards—Price Adjustment (MAY 2014)

* * * * *

363. Amend section 52.222-48 by—

a. Revising the section and clause headings;

b. Removing from the introductory text of paragraph (b) “Contract Act” and adding “Contract Labor Standards statute” in its place;

c. Removing from paragraph (b)(1) “Act of 1965” and adding “Labor Standards” in its place; and

d. Removing from paragraphs (b)(2), (c)(1), and (c)(2) the words “Contract Act” and adding “Contract Labor Standards” in its place.

The revised text reads as follows:

52.222-48 Exemption From Application of the Service Contract Labor Standards to Contracts for Maintenance, Calibration, or Repair of Certain Equipment—Certification.

* * * * *

Exemption From Application of the Service Contract Labor Standards to Contracts for Maintenance, Calibration, or Repair of Certain Equipment—Certification (MAY 2014)

* * * * *

364. Amend section 52.222-49 by—

a. Revising the section and clause headings; and

b. Removing from paragraph (a) “Contract Act” and adding “Contract Labor Standards statute” in its place.

The revised text reads as follows:

52.222-49 Service Contract Labor Standards—Place of Performance Unknown.

* * * * *

Service Contract Labor Standards—Place of Performance Unknown (MAY 2014)

* * * * *

365. Amend section 52.222-51 by—

a. Revising the section and clause headings;

b. Removing from paragraph (e) “Contract Act” and adding “Contract Labor Standards statute” in its place.

The revised text reads as follows:

52.222-51 Exemption From Application of the Service Contract Labor Standards to Contracts for Maintenance, Calibration, or Repair of Certain Equipment—Requirements.

* * * * *

Exemption From Application of the Service Contract Labor Standards to Contracts for Maintenance, Calibration, or Repair of Certain Equipment—Requirements (MAY 2014)

* * * * *

366. Amend section 52.222-52 by—

a. Revising the section and clause headings;

b. Removing from the introductory text of paragraph (b) “Contract Act” and adding “Contract Labor Standards statute” in its place;

c. Removing from paragraph (b)(1) “Act of 1965” and adding “Labor Standards” in its place;

d. Removing from paragraphs (b)(2), (c)(1) and (c)(2) “Contract Act” and adding “Contract Labor Standards” in its place; and

The revised text reads as follows:

52.222-52 Exemption From Application of the Service Contract Labor Standards to Contracts for Certain Services—Certification.

* * * * *

Exemption From Application of the Service Contract Labor Standards to Contracts for Certain Services—Certification (MAY 2014)

* * * * *

367. Amend section 52.222-53 by—

a. Revising the section and clause headings;

b. Removing from paragraphs (f) and (g) “Contract Act” and adding “Contract Labor Standards statute” in their places.

The revised text reads as follows:

52.222-53 Exemption From Application of the Service Contract Labor Standards to Contracts for Certain Services—Requirements.

* * * * *

Exemption From Application of the Service Contract Labor Standards to Contracts for Certain Services—Requirements (MAY 2014)

* * * * *

368. Amend section 52.225-1 by—

a. Revising the section and clause headings;

b. Removing from paragraph (2) of the definition “Commercially available off-the-shelf (COTS) item” in paragraph (a), “section 3 of the Shipping Act of 1984 (46 U.S.C. App. 1702)” and adding “46 U.S.C. 40102(4)” in its place;

c. Revising paragraph (b); and

d. Removing from paragraph (d) the word “Act”.

The revised text read as follows:

52.225-1 Buy American—Supplies.

* * * * *

Buy American—Supplies (MAY 2014)

* * * * *

(b) 41 U.S.C. chapter 83, Buy American, provides a preference for domestic end products for supplies acquired for use in the United States. In accordance with 41 U.S.C. 1907, the component test of the Buy American statute is waived for an end product that is a COTS item (See 12.505(a)(1)).

* * * * *

369. Amend section 52.225-2 by—

a. Revising the section and clause headings; and

b. Removing from paragraph (a) “Act”.

The revised text reads as follows:

52.225-2 Buy American Certificate.

* * * * *

Buy American Certificate (MAY 2014)

* * * * *

370. Amend section 52.225-3 by—

a. Revising the section and clause headings;

b. Removing from paragraph (2) of the definition “Commercially available off-the-shelf (COTS) item” in paragraph (a), “section 3 of the Shipping Act of 1984 (46 U.S.C. App. 1702)” and adding “46 U.S.C. 40102(4)” in its place;

c. Revising the first and second sentence of paragraph (c); and removing from paragraph (c) “American Act-Free” and adding “American-Free” in its place;

d. Amending Alternate I by—

i. Revising the date of the Alternate;

ii. Removing from paragraph (c) “American Act is” and “American Act-Free” and adding “American statute is” and “American-Free” in their places, respectively;

e. Amending Alternate II by—

i. Revising the date of the Alternate;

ii. Removing from paragraph (c) “American Act is” and “American Act-Free” and adding “American statute is” and “American-Free” in their places, respectively;

f. Amending Alternate III by—

i. Revising the date of the Alternate; and

ii. Removing from paragraph (c) “American Act is” and “American Act-Free” and adding “American statute is” and “American-Free” in their places, respectively.

The revised text reads as follows:

52.225-3 Buy American—Free Trade Agreements—Israeli Trade Act.

* * * * *

Buy American—Free Trade Agreements—Israeli Trade Act (MAY 2014)

* * * * *

(c) Delivery of end products. 41 U.S.C. chapter 83, Buy American statute, provides a preference for domestic end products for supplies acquired for use in the United States. In accordance with 41 U.S.C. 1907, the component test of the Buy American statute is waived for an end product that is a COTS item (See 12.505(a)(1)). * * *

Alternate I (MAY 2014). * * *

* * * * *

Alternate II (MAY 2014). * * *

* * * * *

Alternate III (MAY 2014). * * *

* * * * *

371. Amend section 52.225-4 by—

a. Revising the section and clause headings;

b. Removing from paragraphs (a), (b) and (c) “American Act—” and adding “American—” in their places; and

c. Amend Alternate I by—

i. Revising the date of the Alternate;

ii. Removing from paragraph (b) “American Act—” and adding “American—” in its place;

d. Amending Alternate II by—

i. Revising the date of the Alternate;

ii. Removing from paragraph (b) “American Act—” and adding “American—” in its place;

e. Amending Alternate III by—

i. Revising the date of the Alternate; and

ii. Removing from paragraph (b) “American Act—” and adding “American—” in its place.

The revised text reads as follows:

52.225-4 Buy American—Free Trade Agreements—Israeli Trade Act Certificate.

* * * * *

Buy American—Free Trade Agreements—Israeli Trade Act Certificate (MAY 2014)

* * * * *

Alternate I (MAY 2014). * * *

* * * * *

Alternate II (MAY 2014). * * *

* * * * *

Alternate III (MAY 2014). * * *

* * * * *

372. Amend section 52.225-6 by—

a. Revising the date of the provision; and

b. Removing from paragraph (c) “American Act” and adding “American statute” in its place.

The revised text reads as follows:

52.225-6 Trade Agreements Certificate.

* * * * *

Trade Agreements Certificate (MAY 2014)

* * * * *

373. Amend section 52.225-7 by—

a. Revising the section and provision headings; and

b. Removing from paragraph (b) “American Act” and adding “American statute” in its place.

The revised text reads as follows:

52.225-7 Waiver of Buy American Statute for Civil Aircraft and Related Articles.

* * * * *

Waiver of Buy American Statute for Civil Aircraft and Related Articles (MAY 2014)

* * * * *

374. Amend section 52.225-9 by—

a. Revising the section and clause headings;

b. Removing from paragraph (2) of the definition “Commercially available off-the-shelf (COTS) item” in paragraph (a), “section 3 of the Shipping Act of 1984 (46 U.S.C. App. 1702)” and adding “46 U.S.C. 40102(4)” in its place;

c. Revising paragraph (b)(1);

d. Removing from paragraphs (b)(3)(i) and (b)(3)(ii) “American Act” and adding “American statute” in their places respectively;

e. Removing from the heading of paragraph (c) “American Act” and adding “American statute” in its place; and

f. Removing from paragraphs (c)(2) and (c)(3) “American Act” wherever it appears and adding “American statute” in their places respectively.

The revised text reads as follows:

52.225-9 Buy American—Construction Materials.

* * * * *

Buy American—Construction Materials (MAY 2014)

* * * * *

(b) * * *

(1) This clause implements 41 U.S.C. chapter 83, Buy American, by providing a preference for domestic construction material. In accordance with 41 U.S.C. 1907, the component test of the Buy American statute is waived for construction material that is a COTS item. (See FAR 12.505(a)(2)). The Contractor shall use only domestic construction material in performing this contract, except as provided in paragraphs (b)(2) and (b)(3) of this clause.

* * * * *

375. Amend section 52.225-10 by—

a. Revising the section and provision headings;

b. Removing from paragraph (a) “Act”;

c. Removing from paragraph (b) “American Act” and adding “American statute” in its place (two times);

d. Removing from paragraph (c)(1) “American Act” and adding “American statute” in its place;

e. Amend Alternate I by—

i. Revising the date of the Alternate; and

ii. Removing from paragraph (b) “American Act” and adding “American statute” in its place;

The revised text reads as follows:

52.225-10 Notice of Buy American Requirement—Construction Materials.

* * * * *

Notice of Buy American Requirement—Construction Materials (MAY 2014)

* * * * *

Alternate I (MAY 2014). * * *

* * * * *

376. Amend section 52.225-11 by—

a. Revising the section and clause headings;

b. Removing from paragraph (2) of the definition “Commercially available off-the-shelf (COTS) item” in paragraph (a), “section 3 of the Shipping Act of 1984 (46 U.S.C. App. 1702)” and adding “46 U.S.C. 40102(4)” in its place;

c. Revising paragraph (b)(1);

d. Removing from paragraphs (b)(4)((i) and (b)(4)(ii) “American Act” and adding “American statute” in its place;

e. Removing from the heading of paragraph (c) “American Act” and adding “American statute” in its place;

f. Removing from paragraph (c)(2) and (c)(3) “American Act” and adding “American statute” in its place (three times); and

g. Amend Alternate I by revising the date of the Alternate and paragraph (b)(1).

The revised text read as follows:

52.225-11 Buy American—Construction Materials Under Trade Agreements.

* * * * *

Buy American—Construction Materials Under Trade Agreements (MAY 2014)

* * * * *

(b) * * *

(1) This clause implements 41 U.S.C. chapter 83, Buy American, by providing a preference for domestic construction material. In accordance with 41 U.S.C. 1907, the component test of the Buy American statute is waived for construction material that is a COTS item. (See FAR 12.505(a)(2)). In addition, the Contracting Officer has determined that the WTO GPA and Free Trade Agreements (FTAs) apply to this acquisition. Therefore, the Buy American restrictions are waived for designated country construction materials.

* * * * *

Alternate I (MAY 2014). * * *

* * * * *

(b) * * *

(1) This clause implements 41 U.S.C. chapter 83, Buy American, by providing a preference for domestic construction material. In accordance with 41 U.S.C. 1907, the component test of the Buy American statute is waived for construction material that is a COTS item. (See FAR 12.505(a)(2)). In addition, the Contracting Officer has determined that the WTO GPA and all the Free Trade Agreements except the Bahrain FTA, NAFTA, and the Oman FTA apply to the this acquisition. Therefore, the Buy American statute restrictions are waived for designated country construction materials other than Bahrainian, Mexican, or Omani construction materials.

* * * * *

377. Amend section 52.225-12 by—

a. Revising the section and clause headings;

b. Removing from paragraph (a) “Buy American Act” and adding “Buy American” in its place;

c. Removing from paragraph (b) “Buy American Act” and adding “Buy American statute” in its place (two times);

d. Removing from paragraph (c)(1) the words “Buy American Act” and adding “Buy American statute” in its place; and

e. Amend Alternate I by—

i. Revising the date of the Alternate; and

ii. Removing from paragraph (b) “American Act” and adding “American statute” in its place.

The revised text reads as follows:

52.225-12 Notice of Buy American Requirement—Construction Materials Under Trade Agreements.

* * * * *

Notice of Buy American Requirement—Construction Materials Under Trade Agreements (MAY 2014)

* * * * *

Alternate I (MAY 2014). * * *

* * * * *

378. Amend section 52.225-21 by—

a. Revising the section and clause headings;

b. Removing from paragraph (1) of the definition “Domestic construction material”, in paragraph (a) “American Act” and adding “American statute” in its place;

c. Removing from paragraph (b)(1)(ii) “The Buy American Act (41 U.S.C. 10a-10d)” and adding “41 U.S.C. chapter 83, Buy American,” in its place;

d. Removing from paragraph (b)(4)(iii) “American Act” and adding “American statute” in its place;

e. Removing from the heading of paragraph (c) “American Act” and add “American statute” in its place.

f. Removing from paragraphs (c)(2) and (c)(3) “American Act” and adding “American statute” in its place (three times).

The revised text reads as follows:

52.225-21 Required Use of American Iron, Steel, and Manufactured Goods—Buy American Statute—Construction Materials.

* * * * *

Required Use of American Iron, Steel, and Manufactured Goods—Buy American Statute—Construction Materials (MAY 2014)

* * * * *

379. Amend section 52.225-22 by—

a. Revising the section and clause headings;

b. Removing from paragraph (a) “American Act” and adding “American Statute” in its place;

c. Revising paragraph (b);

d. Removing from the introductory text of paragraph (c)(1) “American Act” and adding “American statute” in its place;

e. Amend Alternate I by—

i. Revising the date of the Alternate; and

ii. Removing from paragraph (b) “American Act” and adding “American statute” in its place.

The revised text reads as follows:

52.225-22 Notice of Required Use of American Iron, Steel, and Manufactured Goods—Buy American Statute—Construction Materials.

* * * * *

Notice of Required Use of American Iron, Steel, and Manufactured Goods—Buy American Statute—Construction Materials (MAY 2014)

* * * * *

(b) Requests for determinations of inapplicability. An offeror requesting a determination regarding the inapplicability of section 1605 of the American Recovery and Reinvestment Act of 2009 (Pub. L. 111-5) (Recovery Act) or the Buy American statute should submit the request to the Contracting Officer in time to allow a determination before submission of offers. The offeror shall include the information and applicable supporting data required by paragraphs (c) and (d) of the clause at FAR 52.225-21 in the request. If an offeror has not requested a determination regarding the inapplicability of section 1605 of the Recovery Act or the Buy American statute before submitting its offer, or has not received a response to a previous request, the offeror shall include the information and supporting data in the offer.

* * * * *

Alternate I (MAY 2014). * * *

* * * * *

380. Amend section 52.225-23 by—

a. Revising the section and clause headings;

b. Removing from paragraph (1) of the definition “Domestic construction material” in paragraph (a) “Buy American Act” and adding ”Buy American statute” in its place;

c. Removing from the introductory text of paragraph (b)(1), paragraphs (b)(1)(ii), and (b)(4)(iii) “Buy American Act” and adding “Buy American statute” in its place;

d. Removing from the heading of paragraph (c) “Buy American Act” and adding “Buy American statute” in its place;

e. Removing from paragraph (c)(2) “Buy American Act” and adding “Buy American statute” in its place; and

f. Removing from paragraph (c)(3) “Buy American Act” and “applicable Act” and adding “Buy American statute” and “applicable statute” in their places respectively;

g. Amend Alternate I by—

i. Revising the date of the Alternate; and

ii. Removing from the introductory text of paragraph (b)(1) and paragraph (b)(1)(ii) “Buy American Act” and adding “Buy American statute” in its place.

The revised text reads as follows:

52.225-23 Required Use of American Iron, Steel, and Manufactured Goods—Buy American Statute—Construction Materials Under Trade Agreements.

* * * * *

Required Use of American Iron, Steel, and Manufactured Goods—Buy American Statute—Construction Materials Under Trade Agreements (MAY 2014)

* * * * *

Alternate I (MAY 2014). * * *

* * * * *

381. Amend section 52.225-24 by—

a. Revising the section and provision headings;

b. Removing from paragraph (a) “American Act” and adding “American statute” in its place;

c. Removing from paragraph (b) “American Act” and adding “American statute” in its place (two times);

d. Removing from introductory text of paragraph (c)(1) “American Act” and adding “American statute” in its place;

e. Amend Alternate I by—

1. Revising the date of the Alternate; and

2. Removing from paragraph (b) “American Act” and adding “American statute” in its place.

The revised text reads as follows:

52.225-24 Notice of Required Use of American Iron, Steel, and Manufactured Goods—Buy American Statute—Construction Materials Under Trade Agreements.

* * * * *

Notice of Required Use of American Iron, Steel, and Manufactured Goods—Buy American Statute—Construction Materials Under Trade Agreements (MAY 2014)

* * * * *

Alternate I (MAY 2014). * * *

* * * * *

382. Amend section 52.226-6 by—

a. Revising the date of the clause; and

b. Removing from paragraph (b) “(Pub. L. 110-247)” and adding “(42 U.S.C. 1792)” in its place.

The revised text reads as follows:

52.226-6 Promoting Excess Food Donation to Nonprofit Organizations.

* * * * *

Promoting Excess Food Donation to Nonprofit Organizations (May 2014)

* * * * *

383. Amend section 52.227-11 by—

a. Revising the date of the clause; and

b. Removing from paragraph (k)(4) “Contract Disputes Act” and adding “Contract Disputes statute” in its place.

The revised text reads as follows:

52.227-11 Patent Rights—Ownership by the Contractor.

* * * * *

Patent Rights—Ownership by the Contractor (May 2014)

* * * * *

384. Amend section 52.227-14 by—

a. Revising the date of the clause;

b. Removing from the definition “Technical data” in paragraph (a) the words “databases (See 41 U.S.C. 403(8))” and adding “databases. (See 41 U.S.C. 116)” in its place; and

c. Removing from the introductory text of paragraph (e)(1) “41 U.S.C. 253d” and adding “41 U.S.C. 4703” in its place.

The revised text reads as follows:

52.227-14 Rights in Data—General.

* * * * *

Rights in Data—General (May 2014)

* * * * *

385. Amend section 52.227-20 by revising the date of the clause; and removing from the definition “Technical data” in paragraph (a) the words “41 U.S.C. 403(8)” and adding “41 U.S.C. 116” in their place. The revised text reads as follows:

52.227-20 Rights in Data—SBIR Program.

* * * * *

Rights in Data—SBIR Program (May 2014)

* * * * *

386. Amend section 52.227-21 by—

a. Revising the date of the clause; and

b. Removing from paragraph (a) “41 U.S.C. 418a(d)(7)” and adding “41 U.S.C. 2302(e)(7)” in its place.

The revised text reads as follows:

52.227-21 Technical Data Declaration, Revision, and Withholding of Payment—Major Systems.

* * * * *

Technical Data Declaration, Revision, and Withholding of Payment—Major Systems (May 2014)

* * * * *

387. Amend section 52.228-12 by revising the date of the clause and the clause to read as follows:

52.228-12 Prospective Subcontractor Requests for Bonds.

* * * * *

Prospective Subcontractor Requests for Bonds (May 2014)

In accordance with section 806(a)(3) of Pub. L. 102-190, as amended by sections 2091 and 8105 of Pub. L. 103-355 (10 U.S.C. 2302 note), upon the request of a prospective subcontractor or supplier offering to furnish labor or material for the performance of this contract for which a payment bond has been furnished to the Government pursuant to 40 U.S.C. chapter 31, subchapter III, Bonds, the Contractor shall promptly provide a copy of such payment bond to the requester.

(End of clause)

388. Amend section 52.228-14 by—

a. Revising the date of the clause; and

b. Removing from the introductory text of paragraph (c)(2)(i) and the introductory text of paragraph (c)(2)(ii) “the Miller Act” and adding “40 U.S.C. chapter 31, subchapter III, Bonds” in its place.

The revised text reads as follows:

52.228-14 Irrevocable Letter of Credit.

* * * * *

Irrevocable Letter of Credit (May 2014)

* * * * *

389. Amend section 52.230-2 by—

a. Revising the date of the clause; and

b. Removing from paragraph (b) “the Contract Disputes Act (41 U.S.C. 601)” and adding “41 U.S.C. chapter 71, Contract Disputes” in its place.

The revised text reads as follows:

52.230-2 Cost Accounting Standards.

* * * * *

Cost Accounting Standards (May 2014)

* * * * *

390. Amend section 52.230-3 by—

a. Revising the date of the clause; and

b. Removing from paragraph (b) “the Contract Disputes Act (41 U.S.C. 601)” and adding “41 U.S.C. chapter 71, Contract Disputes” in its place.

The revised text reads as follows:

52.230-3 Disclosure and Consistency of Cost Accounting Practices.

* * * * *

Disclosure and Consistency of Cost Accounting Practices (May 2014)

* * * * *

391. Amend section 52.230-4 by—

a. Revising the date of the clause; and

b. Removing from paragraph (b) “the Contract Disputes Act (41 U.S.C. 601)” and adding “41 U.S.C. chapter 71, Contract Disputes” in its place.

The revised text reads as follows:

52.230-4 Disclosure and Consistency of Cost Accounting Practices—Foreign Concerns.

* * * * *

Disclosure and Consistency of Cost Accounting Practices—Foreign Concerns (May 2014)

* * * * *

392. Amend section 52.230-5 by—

a. Revising the date of the clause; and

b. Removing from paragraph (b) “the Contract Disputes Act (41 U.S.C. 601)” and adding “41 U.S.C. chapter 71, Contract Disputes” in its place.

The revised text reads as follows:

52.230-5 Cost Accounting Standards—Educational Institution.

* * * * *

Cost Accounting Standards—Educational Institution (May 2014)

* * * * *

393. Amend section 52.232-5 by—

a. Revising the date of the clause; and

b. Removing from paragraph (h)(3) “41 U.S.C. 15” and adding “41 U.S.C. 6305” in its place.

The revised text reads as follows:

52.232-5 Payments Under Fixed-Price Construction Contracts.

* * * * *

Payments Under Fixed-Price Construction Contracts (May 2014)

* * * * *

394. Amend section 52.232-17 by—

a. Revising the date of the clause; and

b. Removing from paragraph (a) “Section 611 of the Contract Disputes Act of 1978 (Public Law 95-563)” and adding “41 U.S.C. 7109” in its place.

The revised text reads as follows:

52.232-17 Interest.

* * * * *

Interest (May 2014)

* * * * *

395. Amend section 52.232-23 by—

a. Revising the date of the clause; and

b. Removing from paragraph (a) “41 U.S.C. 15” and adding “41 U.S.C. 6305” in its place.

The revised text reads as follows:

52.232-23 Assignment of Claims.

* * * * *

Assignment of Claims (May 2014)

* * * * *

396. Amend section 52.232-24 by revising the date of the clause and the clause to read as follows:

52.232-24 Prohibition of Assignment of Claims.

* * * * *

Prohibition of Assignment of Claims (May 2014)

The assignment of claims under the Assignment of Claims Act of 1940 “(31 U.S.C. 3727, 41 U.S.C. 6305)” is prohibited for this contract.

* * * * *

397. Amend section 52.232-27 by—

a. Revising the date of the clause;

b. Removing from paragraphs (c)(2)(ii) and (e)(4)(ii) “section 12 of the Contract Disputes Act of 1978 (41 U.S.C. 611)” and adding “41 U.S.C. 7109” in its place;

c. Removing from the introductory text of paragraph (f)(1) “the Miller Act (40 U.S.C. 3133)” and adding “40 U.S.C. 3133” in its place; and

d. Removing from paragraph (f)(2)(ii) “section 12 of the Contract Disputes Act of 1978 (41 U.S.C. 611)” and adding “41 U.S.C. 7109” in its place.

The revised text reads as follows:

52.232-27 Prompt Payment for Construction Contracts.

* * * * *

Prompt Payment for Construction Contracts (May 2014)

* * * * *

398. Amend section 52.232-31 by—

a. Revising the date of the clause; and

b. Removing from the introductory text of paragraph (c) “41 U.S.C. 255(f)” and adding “41 U.S.C. 4505” in its place.

The revised text reads as follows:

52.232-31 Invitation to Propose Financing Terms.

* * * * *

Invitation To Propose Financing Terms (May 2014)

* * * * *

399. Amend section 52.232-36 by—

a. Revising the date of the clause; and

b. Removing from paragraph (e) “, as amended, 31 U.S.C. 3727, 41 U.S.C. 15” and adding “(31 U.S.C. 3727, 41 U.S.C. 6305)” in its place.

The revised text reads as follows:

52.232-36 Payment by Third Party.

* * * * *

Payment by Third Party (May 2014)

* * * * *

400. Amend section 52.233-1 by—

a. Revising the date of the clause and paragraph (a);

b. Removing from paragraph (b) “the Act” and adding “41 U.S.C. chapter 71” in its place;

c. Removing from paragraph (c) “the Act” and adding “41 U.S.C. chapter 71” in its place (three times);

d. Removing from paragraphs (d)(2)(iii) and (d)(3) “duly”; and

e. Removing from paragraph (f) “the Act” and adding “41 U.S.C. chapter 71” in its place.

The revised text reads as follows:

52.233-1 Disputes.

* * * * *

Disputes (May 2014)

(a) This contract is subject to 41 U.S.C. chapter 71, Contract Disputes.

* * * * *

401. Amend section 52.234-4 by—

a. Revising the date of the clause; and

b. Removing from paragraph (f) “a duly” and adding “an” in its place.

The revised text reads as follows:

52.234-4 Earned Value Management System.

* * * * *

Earned Value Management System (May 2014)

* * * * *

402. Amend section 52.237-9 by—

a. Revising the date of the clause; and

b. Removing from paragraph (a) “41 U.S.C. 256(e)(2)(A)” and adding “41 U.S.C. 4304(b)(1)” in its place.

The revised text reads as follows:

52.237-9 Waiver of Limitation on Severance Payments to Foreign Nationals.

* * * * *

Waiver of Limitation on Severance Payments to Foreign Nationals (May 2014)

* * * * *

403. Amend section 52.242-3 by—

a. Revising the date of the clause;

b. Removing from paragraph (b) “41 U.S.C. 256” and adding “41 U.S.C. chapter 43” in its place; and

c. Removing from paragraph (f) “the Contract Disputes Act of 1978 (41 U.S.C. 601, et seq.)” and adding “41 U.S.C. chapter 71, Contract Disputes” in its place.

The revised text reads as follows:

52.242-3 Penalties for Unallowable Costs.

* * * * *

Penalties for Unallowable Costs (May 2014)

* * * * *

404. Amend section 52.244-6 by—

a. Revising the date of the clause;

b. Removing from paragraph (c)(1)(i) “(Pub. L. 110-252, Title VI, Chapter 1 (41 U.S.C. 251 note))” and adding “(41 U.S.C. 3509)” in its place; and

c. Revising paragraph (c)(1)(iii).

The revised text reads as follows:

52.244-6 Subcontracts for Commercial Items.

* * * * *

Subcontracts for Commercial Items (May 2014)

* * * * *

(c)(1) * * *

(iii) 52.219-8, Utilization of Small Business Concerns (May 2014) (15 U.S.C. 637(d)(2) and (3)), if the subcontract offers further subcontracting opportunities. If the subcontract (except subcontracts to small business concerns) exceeds $650,000 ($1.5 million for construction of any public facility), the subcontractor must include 52.219-8 in lower tier subcontracts that offer subcontracting opportunities.

* * * * *

PART 53—FORMS

53.214 [Amended]

405. Amend section 53.214 by removing from the heading of paragraph (a) “(Rev. 5/2011)” and adding “(Rev. 3/2013)” in its place.

53.215-1 [Amended]

406. Amend section 53.215-1 by removing from the heading of paragraph (a) “(Rev. 5/2011)” and adding “(Rev. 3/2013)” in its place.

407. Amend section 53.222 by revising paragraphs (c), (d), (e), (f), and (h) to read as follows:

53.222 Application of labor laws to Government acquisitions (SF's 308, 1093, 1413, 1444, 1445, 1446, WH-347).

* * * * *

(c) SF 308 (DOL) (Rev. 2/2013), Request for Wage Determination and Response to Request. (See 22.404-3 (a) and (b).)

(d) SF 1093 (Rev. 2/2013), Schedule of Withholdings Under the Construction Wage Rate Requirements Statute (40 U.S.C. Chapter 31, Subchapter IV, section 3144) and/or the Contract Work Hours and Safety Standards Statute (40 U.S.C. Chapter 37, section 3703). (See 22.406-9(c)(1).)

(e) SF 1413 (Rev. 4/2013), Statement and Acknowledgment. SF 1413 is prescribed for use in obtaining contractor acknowledgment of inclusion of required clauses in subcontracts, as specified in 22.406-5.

(f) Form SF 1444 (Rev. 4/2013), Request for Authorization of Additional Classification and Rate. (See 22.406-3(a) and 22.1019.)

* * * * *

(h) SF 1446 (Rev. 4/2013), Labor Standards Investigation Summary Sheet. (See 22.406-8(d).)

* * * * *

53.228 [Amended]

408. Amend section 53.228 by—

a. Removing from the heading of paragraph (b) “(Rev. 5/96)” and adding “(Rev. 3/2013)” in its place;

b. Removing from the heading of paragraph (c) “(Rev. 10/98)” and adding “(Rev. 3/2013)” in its place; and

c. Removing from paragraphs (h) and (i) “(Rev.10/98)” and “Miller Act” and adding “(Rev. 4/2013)” and “Bonds statute” in their places, respectively.

53.236-2 [Amended]

409. Amend section 53.236-2 by removing from the heading of paragraph (b) “(1/04)” and adding “(Rev. 3/2013)” in its place.

410. Revise section 53.301-25 to read as follows:

53.301-25 Performance Bond.

BILLING CODE 6820-EP-P

411. Revise section 53.301-25A to read as follows:

53.301-25A Payment Bond.

412. Revise section 53.301-26 to read as follows:

53.301-26 Award/Contract.

413. Revise section 53.301-273 to read as follows:

53.301-273 Reinsurance Agreement for a Bonds Statute Performance Bond.

414. Revise section 53.301-274 to read as follows:

53.301-274 Reinsurance Agreement for a Bonds Statute Payment Bond.

415. Revise section 53.301-308 to read as follows:

53.301-308 Request For wage Determination and Response to Request.

416. Revise section 53.301-330 to read as follows:

53.301-330 Architect-Engineer Qualifications.

417. Revise section 53.301-1093 to read as follows:

53.301-1093 Schedule of Withholdings Under the Construction Wage Rate Requirements Statute (40 U.S.C. Chapter 31, Subchapter IV, section 3144) and/or the Contract Work Hours and Safety Standards Statute (40 U.S.C. Chapter 37, section 3703).

418. Revise section 53.301-1413 to read as follows:

53.301-1413 Statement and Acknowledgement.

419. Revise section 53.301-1444 to read as follows:

53.301-1444 Request for Authorization of Additional Classification and Rate.

420. Revise section 53.301-1446 to read as follows:

53.301-1446 Labor Standards Investigation Summary Sheet.

[FR Doc. 2014-08744 Filed 4-28-14; 8:45 am]

BILLING CODE 6820-EP-C